DEPARTMENT OF VETERANS AFFAIRS

Privacy Act of 1974; System of Records

AGENCY: Department of Veterans Affairs (VA).

ACTION: Notice of a Modified System of Records.

SUMMARY: As required by the Privacy Act of 1974, notice is hereby given that the Department of Veterans Affairs (VA) is amending the system of records entitled “Patient Medical Records-VA” (24VA10P2). VA is amending the system by revising the System Number; System Location; System Manager; Purpose; Categories of Individuals Covered by the System; Categories of Records in the System; Record Source Categories; Routine Uses of Records Maintained in the System; Policies and Practices for Storage of Records; Policies and Practices For Retention and Disposal of Records; Physical, Procedural, and Administrative Safeguards; and Appendix. VA is republishing the system notice in its entirety.

DATES: Comments on this amended system of records must be received no later than November 2, 2020. If no public comment is received during the period allowed for comment or unless otherwise published in the Federal Register by VA, the new system will become effective November 2, 2020.

ADDRESSES: Comments may be submitted through www.Regulations.gov or mailed to, Director, Information Access and Privacy (10A7B), Department of Veterans Affairs, 810 Vermont Avenue NW, Washington, DC 20420. Comments should indicate that they are submitted in response to “Patient Medical Records-VA”. Comments received will be available at regulations.gov for public viewing, inspection or copies.

FOR FURTHER INFORMATION CONTACT: Stephania Griffin, Veterans Health Administration (VHA) Privacy Officer, Department of Veterans Affairs, 810 Vermont Avenue NW, Washington, DC 20420; telephone (704) 245-2492 (Note: not a toll-free number).

SUPPLEMENTARY INFORMATION: The System Number is being updated from 24VA10P2 to 24VA10A7 to address organizational changes.

The System Location is being updated to reflect electronic records being located at Federal Records Centers, VA Enterprise Cloud Data Centers/Amazon Web Services, 1915 Terry Avenue, Seattle, WA 98101 and contracted data repository sites, such as the Cerner Technology Centers (CTC): Primary Data Center in Kansas City, MO and Continuity of Operations/Disaster Recovery (COOP/DR) Data Center in Lees Summit, MO.

The System Manager is being updated to reflect organization changes. This section will also replace, “Health Data Repository: Director, Health Data Systems (19-SL), Department of Veterans Affairs, 295 Chipeta Way, Salt Lake City, UT 84108.” with “Clinical Data Repository/Health Data Repository: Director, Clinical Informatics and Data Management Office (10A7A0), 810 Vermont Avenue NW, Washington, DC 20420.”

The Purpose is being amended to remove law enforcement investigations.

The Categories of Individuals Covered by the System, number 7 is being amended to include “other circumstances including but not limited to”.

The Categories of Records in the System, (iii) is being amended to include medical record number.

Record Source Categories is being amended to include the individual receiving care and VHA national databases.

Routine use seventeen (17) is being amended to remove General Services Administration.

Routine use forty-seven (47) is being amended to include care coordination.

Routine Use sixty-one (61) is being added to state, “VA may disclose health care information to DoD for the purpose of VHA health care operations as defined in the HIPAA Privacy Rule, 45 CFR parts 160 and 164 and to the Defense Health Agency (DHA), as a health care provider, for the purpose of DHA heath care operations.” VHA, as a health care provider, must be able to share health care information with other entities and health care providers for VA to perform certain health care operations, such as quality assessment and improvement activities and medical reviews.

Routine use sixty-two (62) is being added to state, “VA may disclose information from this system of records to another Federal agency or Federal entity, when VA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.”

Routine Use sixty-three (63) is being added to state, “Disclosure of Veteran identifiers and demographic information (e.g., name, social security number (SSN), address, date of birth) may be made to an organization with whom VA has a documented partnership, arrangement or agreement (e.g., Health Information Exchange (HIE), Health Information Service Provider (HISP) Direct, CommonWell Health Alliance network), for the purpose of identifying and correlating patients.” VA needs this ability to share demographic information for correlation and identification purposes.

Routine Use sixty-four (64) is being added to state, VA may disclose relevant health care information to the Centers for Disease Control and Prevention (CDC) and/or their designee in response to its request or at the initiation of VA, in connection with disease-tracking, patient outcomes, bio-surveillance, or other health information required for program accountability. VA needs the ability to conduct disease tracking to impact patient outcomes, respond to public health threats, and to contribute significantly to the CDC's ability to conduct and monitor public health surveillance.

Policies and Practices for Storage of Records section is being amended to include Cerner Technology Centers.

Policies and Practices for Retrievability of Records is being amended to include medical record number.

Policies and Practices for Retention and Disposal of Records is being amended to include VHA Records Control Schedule (RCS 10-1) 6000.1d (N1-15-91-6, Item 1d) and 6000.2b (N1-15-02-3, Item 3).

The Physical, Procedural and Administrative Safeguards section is being amended to change the VA Boston Development Center to the Allocation Resource Center. This section will add, “Access to Cerner Technology Centers is generally restricted to Cerner employees, contractors or associates with a Cerner issued ID badge and other security personnel cleared for access to the data center. Access to computer rooms housing Federal data, hence Federal enclave, is restricted to persons Federally cleared for Federal enclave access through electronic badge entry devices. All other persons, such as custodians, gaining access to Federal enclave are escorted.”

Appendix 1 is being amended update addresses pertaining to VA facilities.

The Report of Intent to Amend a System of Records Notice and an advance copy of the system notice have been sent to the appropriate Congressional committees and to the Director of the Office of Management and Budget (OMB) as required by 5 U.S.C. 552a(r) (Privacy Act) and guidelines issued by OMB (65 FR 77677), December 12, 2000.

Signing Authority

The Senior Agency Official for Privacy, or designee, approved this document and authorized the undersigned to sign and submit the document to the Office of the Federal Register for publication electronically as an official document of the Department of Veterans Affairs. James P. Gfrerer, Assistant Secretary of Information and Technology and Chief Information Officer, approved this document on June 16, 2020 for publication.

Dated: September 24, 2020.
Amy L. Rose,
Program Analyst, VA Privacy Service, Office of Information Security, Office of Information and Technology, Department of Veterans Affairs.

SYSTEM NAME AND NUMBER:

Patient Medical Records-VA (24VA10A7)

SECURITY CLASSIFICATION:

Unclassified.

SYSTEM LOCATION:

Records are maintained at each VA health care facility (in most cases, backup information is stored at off-site locations), VA Enterprise Cloud Data Centers/Amazon Web Services, 1915 Terry Avenue, Seattle, WA 98101 and contracted data repository sites, such as the Cerner Technology Centers (CTC): Primary Data Center in Kansas City, MO and Continuity of Operations/Disaster Recovery (COOP/DR) Data Center in Lees Summit, MO. Subsidiary record information is maintained at the various respective services within the health care facility (e.g., Pharmacy, Fiscal, Dietetic, Clinical Laboratory, Radiology, Social Work, Psychology) and by individuals, organizations, and/or agencies with which VA has a contract or agreement to perform such services, as VA may deem practicable.

Address locations for VA facilities are listed in Appendix 1 of the biennial publication of the VA Privacy Act Issuances. In addition, information from these records or copies of these records may be maintained at the Department of Veterans Affairs Central Office, 810 Vermont, NW, Washington, DC 20420; VA National Data Centers; Federal Records Center; VA Health Data Repository (HDR), located at the VA National Data Centers; VA Chief Information Office (CIO) Field Offices; Veterans Integrated Service Networks; and Regional and General Counsel Offices.

SYSTEM MANAGER(S):

Patient Medical Records: Director, Health Information Governance (10A7B), Department of Veterans Affairs, 810 Vermont Avenue NW, Washington, DC 20420. Clinical Health Data Repository/Health Data Repository: Director, Clinical Informatics and Data Management Office (10A7A), 810 Vermont Avenue NW, Washington, DC 20420.

AUTHORITY FOR MAINTENANCE OF THE SYSTEM:

Title 38, United States Code, Sections 501(b) and 304.

PURPOSE(S) OF THE SYSTEM:

The paper and automated records may be used for such purposes as: ongoing treatment of individuals and patients; documentation of treatment provided; payment; health care operations such as producing various management and patient follow-up reports; responding to patient and other inquiries; for epidemiological research and other health care related studies; statistical analysis, resource allocation and planning; providing clinical and administrative support to patient medical care; determining entitlement and eligibility for VA benefits; processing and adjudicating benefit claims by Veterans Benefits Administration Regional Office (VARO) staff; for audits, reviews, and investigations conducted by staff of the health care facility, the networks, VA Central Office, and the VA Office of Inspector General (OIG); sharing of health information between and among Veterans Health Administration (VHA), Department of Defense (DoD), Indian Health Services (IHS), and other government and private industry health care organizations; quality assurance audits, reviews, and investigations; personnel management and evaluation; employee ratings and performance evaluations; and employee disciplinary or other adverse action, including discharge; advising health care professional licensing or monitoring bodies or similar entities of activities of VA and former VA health care personnel; accreditation of a facility by an entity such as the Joint Commission (TJC); and notifying medical schools of medical students' performance and billing.

CATEGORIES OF INDIVIDUALS COVERED BY THE SYSTEM:

1. Veterans who have applied for health care services under Chapter 17 of Title 38, United States Code, and members of their immediate families;

2. Spouses, surviving spouses, and children of Veterans who have applied for health care services under Chapter 17 of Title 38, United States Code;

3. Beneficiaries of other Federal agencies;

4. Individuals examined or treated under contract or resource sharing agreements;

5. Individuals examined or treated for research or donor purposes;

6. Individuals who have applied for Title 38 benefits but who do not meet the requirements under Title 38 to receive such benefits;

7. Individuals who were provided medical care under other circumstances, including but not limited to, emergency conditions for humanitarian reasons;

8. Pensioned members of allied forces provided health care services under Chapter I of Title 38, United States Code; and

9. Caregivers.

CATEGORIES OF RECORDS IN THE SYSTEM:

The medical record is a consolidated health record (CHR) which may include:

(i) An administrative (non-clinical information) record (e.g., medical benefit application and eligibility information) including information obtained from Veterans Benefits Administration automated records such as the Veterans and Beneficiaries Identification and Records Locator Subsystem-VA (38VA23) and the Compensation, Pension, Education and Rehabilitation Records-VA (58VA21/22/28), and correspondence about the individual;

(ii) A medical record (a cumulative account of sociological, diagnostic, counseling, rehabilitation, drug and alcohol, dietetic, medical, surgical, dental, psychological, and/or psychiatric information compiled by VA professional staff and non-VA health care providers), and

(iii) Subsidiary record information (e.g., Bed Management Solution (BMS), tumor registry, certain clinically oriented information associated with My HealtheVet such as secure messages, minimum data set, dental, pharmacy, nuclear medicine, clinical laboratory, radiology, and patient scheduling information). The CHR may also include identifying information (e.g., name, address, date of birth, VA claim number, social security number); medical record number, military service information (e.g., dates, branch and character of service, service number, medical information); family information (e.g., next of kin and person to notify in an emergency; address information, name, social security number and date of birth for Veteran's spouse and dependents; family medical history information); employment information (e.g., occupation, employer name and address); financial information (e.g., family income; assets; expenses; debts; amount and source of income for Veteran, spouse, and dependents); third-party health plan contract information (e.g., health insurance carrier name and address, policy number, amounts billed and paid); and information pertaining to the individual's medical, surgical, psychiatric, dental, and/or psychological examination, evaluation, and/or treatment (e.g., information related to the chief complaint and history of present illness; information related to physical, diagnostic, therapeutic special examinations; clinical laboratory, pathology and x-ray findings; operations; medical history; medications prescribed and dispensed; treatment plan and progress; consultations; photographs taken for identification and medical treatment; education and research purposes; facility locations where treatment is provided; observations and clinical impressions of health care providers to include identity of providers and to include, as appropriate, the present state of the patient's health; and an assessment of the patient's emotional, behavioral, and social status, as well as an assessment of the patient's rehabilitation potential and nursing care needs). Abstract information (e.g., environmental, epidemiological and treatment regimen registries) is maintained in auxiliary paper and automated records.

RECORD SOURCE CATEGORIES:

The individual receiving care, patients, family members, friends, or accredited representatives, employers; military service departments; health insurance carriers; private medical facilities and health care professionals; State and local agencies; other Federal agencies; VA Regional Offices; VHA national databases; Veterans Benefits Administration automated record systems (including Veterans and Beneficiaries Identification and Records Location Subsystem-VA (38VA23) and the Compensation, Pension, Education and Rehabilitation Records-VA (58VA21/22/28); and various automated systems providing clinical and managerial support to VA health care facilities.

ROUTINE USES OF RECORDS MAINTAINED IN THE SYSTEM, INCLUDING CATEGORIES OF USERS AND THE PURPOSES OF SUCH USES:

To the extent that records contained in the system include information protected by 45 CFR parts 160 and 164, i.e., individually identifiable health information, and 38 U.S.C. 7332, i.e., medical treatment information related to drug abuse, alcoholism or alcohol abuse, sickle cell anemia, or infection with the Human Immunodeficiency Virus, that information may not be disclosed under a routine use unless there is also specific statutory authority in 38 U.S.C. 7332 and regulatory authority in 45 CFR parts 160 and 164 permitting disclosure.

1. VA may disclose health care information as deemed necessary and proper to Federal, State, and local government agencies and national health organizations in order to assist in the development of programs that will be beneficial to claimants, protect their rights under law, and assure that they are receiving all benefits to which they are entitled.

2. VA may disclose health care information furnished and the period of care, as deemed necessary and proper to accredited service organization representatives and other approved agents, attorneys, and insurance companies to aid claimants whom they represent in the preparation, presentation, and prosecution of claims under laws administered by VA, or State or local agencies.

3. VA may disclose any information in this system, except the names and home addresses of Veterans and their dependents, which is relevant to a suspected or reasonably imminent violation of law, whether civil, criminal or regulatory in nature and whether arising by general or program statute or by regulation, rule or order issued pursuant thereto, to a Federal, State, local, tribal, or foreign agency charged with the responsibility of investigating or prosecuting such violation, or charged with enforcing or implementing the statute, regulation, rule or order. VA may also disclose the names and addresses of Veterans and their dependents to a Federal agency charged with the responsibility of investigating or prosecuting civil, criminal or regulatory violations of law, or charged with enforcing or implementing the statute, regulation, rule or order issued pursuant thereto.

4. VA may disclose information to a Federal agency or the District of Columbia government, in response to its request, in connection with the hiring or retention of an employee and the issuance of a security clearance as required by law, the reporting of an investigation of an employee, or the issuance of a license, grant, or other benefit by the requesting agency, to the extent that the information is relevant and necessary to the requesting agency's decision.

5. Health care information may be disclosed by appropriate VA personnel to the extent necessary and on a need-to-know basis, consistent with good medical-ethical practices, to family members and/or the person(s) with whom the patient has a meaningful relationship. In response to an inquiry from a member of the general public about a named individual, VA may disclose the patient's name, presence (and location when needed for visitation purposes) in a medical facility, and general condition that does not reveal specific medical information (e.g., satisfactory, seriously ill).

6. In the course of presenting evidence to a court, magistrate, or administrative tribunal in matters of guardianship, inquests, and commitments, VA may disclose relevant information to private attorneys representing Veterans rated incompetent in conjunction with issuance of certificates of incompetency and to probation and parole officers in connection with court-required duties. VA may disclose relevant information to a guardian ad litem in relation to his or her representation of a claimant in any legal proceeding.

7. VA may disclose information to a member of Congress or a congressional staff member in response to an inquiry from the congressional office made at the request of that individual.

8. VA may disclose name(s) and address(es) of present or former members of the armed services and/or their dependents under certain circumstances: (a) to any nonprofit organization, if the release is directly connected with the conduct of programs and the utilization of benefits under Title 38, or (b) to any criminal or civil law enforcement governmental agency or instrumentality charged under applicable law with the protection of the public health or safety, if a qualified representative of such organization, agency, or instrumentality has made a written request for such name(s) or address(es) for a purpose authorized by law, provided that the records will not be used for any purpose other than that stated in the request and that the organization, agency, or instrumentality is aware of the penalty provision of 38 U.S.C. 5701(f).

9. VA may disclose the nature of the patient's illness, probable prognosis, estimated life expectancy, and need for the presence of the related service member to the American Red Cross for the purpose of justifying emergency leave.

10. VA may disclose relevant information to attorneys, insurance companies, employers, third parties liable or potentially liable under health plan contracts, and courts, boards, or commissions, to the extent necessary to aid VA in the preparation, presentation, and prosecution of claims authorized under Federal, State, or local laws, and regulations promulgated thereunder.

11. VA may disclose health information for research purposes determined to be necessary and proper to epidemiological and other research entities approved by the Under Secretary for Health or designee, such as the Medical Center Director of the facility where the information is maintained.

12. VA may disclose relevant information to attorneys, insurance companies, employers, third parties liable or potentially liable under health plan contracts, and courts, boards, or commissions, to the extent necessary to aid VA in the preparation, presentation, and prosecution of claims authorized under Federal, State, or local laws, and regulations promulgated thereunder.

13. VA may disclose health information for research purposes determined to be necessary and proper to epidemiological and other research entities approved by the Under Secretary for Health or designee, such as the Medical Center Director of the facility where the information is maintained.

14. VA may disclose health information, including the name(s) and address(es) of present or former personnel of the Armed Services and/or their dependents, (a) to a Federal department or agency or (b) directly to a contractor of a Federal department or agency, at the written request of the head of the agency or the designee of the head of that agency, to conduct Federal research necessary to accomplish a statutory purpose of an agency. When this information is to be disclosed directly to the contractor, VA may impose applicable conditions on the department, agency, and/or contractor to ensure the appropriateness of the disclosure to the contractor.

15. VA may disclose relevant information to the Department of Justice (DoJ) or other Federal agencies in pending or reasonably anticipated litigation or other proceedings before a court, administrative body, or other adjudicative tribunal, when:

a. VA or any subdivision thereof;

b. Any VA employee in his or her official capacity;

c. Any VA employee in his or her individual capacity, where DoJ has agreed to represent the employee; or

d. The United States, where VA determines that the proceedings are likely to affect the operations of VA or any of its components is a party to or has an interest in the proceedings, and VA determines that the records are relevant and necessary to the proceedings.

16. Health care information may be disclosed by the examining VA physician to a non-VA physician when that non-VA physician has referred the individual to VA for medical care.

17. VA may disclose records to the National Archives and Records Administration in records management inspections and other activities conducted under Title 44, Chapter 29, of the U.S.C.

18. VA may disclose health care information concerning a non-judicially declared incompetent patient to a third party upon the written authorization of the patient's next of kin in order for the patient or, consistent with the best interest of the patient, a member of the patient's family, to receive a benefit to which the patient or family member is entitled or to arrange for the patient's discharge from a VA medical facility. Sufficient information to make an informed determination will be made available to such next of kin. If the patient's next of kin is not reasonably accessible, the chief of staff, director, or designee of the custodial VA medical facility may make the disclosure for these purposes.

19. VA may disclose information to a Federal agency, a State or local government licensing board, and/or the Federation of State Medical Boards or a similar non-governmental entity that maintains records concerning individuals' employment histories or concerning the issuance, retention, or revocation of licenses, certifications, or registration necessary to practice an occupation, profession, or specialty, to inform the entity about the health care practices of a terminated, resigned, or retired health care employee whose professional health care activity so significantly failed to conform to generally accepted standards of professional medical practice as to raise reasonable concern for the health and safety of patients in the private sector or from another Federal agency. These records may also be disclosed as part of an ongoing computer matching program to accomplish these purposes.

20. VA may disclose information maintained in connection with the performance of any program or activity relating to infection with the Human Immunodeficiency Virus (HIV) to a Federal, State, or local public health authority that is charged under Federal or State law with the protection of the public health, and to which Federal or State law requires disclosure of such record, if a qualified representative of such authority has made a written request that such record be provided as required pursuant to such law for a purpose authorized by the law. The person to whom information is disclosed, under 38 U.S.C. 7332(b)(2)(C), should be advised that they shall not re-disclose or use such information for a purpose other than that for which the disclosure was made. The disclosure of patient name and address under this routine use must comply with the provisions of 38 U.S.C. 5701(f)(2).

21. Information indicating that a patient or subject is infected with the Human Immunodeficiency Virus (HIV) may be disclosed by a physician or professional counselor to the spouse of the patient or subject, to an individual with whom the patient or subject has a meaningful relationship, or to an individual whom the patient or subject has during the process of professional counseling or of testing to determine whether the patient or subject is infected with the virus, identified as being a sexual partner of the patient or subject. Disclosures may be made only if the physician or counselor, after making reasonable efforts to counsel and encourage the patient or subject to provide the information to the spouse or sexual partner, reasonably believes that the patient or subject will not provide the information to the spouse or sexual partner and that the disclosure is necessary to protect the health of the spouse or sexual partner. Such disclosures should, to the extent feasible, be made by the patient's or subject's treating physician or professional counselor. Before any patient or subject gives consent to being tested for the HIV, as part of pre-testing counseling, the patient or subject must be informed fully about these notification procedures.

22. VA may disclose information, including name, address, social security number, and other information as is reasonably necessary to identify an individual, to the National Practitioner Data Bank at the time of hiring and/or clinical privileging/re-privileging of health care practitioners, and other times as deemed necessary by VA, in order for VA to obtain information relevant to a Department decision concerning the hiring, privileging/re-privileging, retention, or termination of the applicant or employee.

23. VA may disclose relevant information to the National Practitioner Data Bank and/or State Licensing Board in the State(s) in which a practitioner is licensed, the VA facility is located, and/or an act or omission occurred upon which a medical malpractice claim was based, when VA reports information concerning: (a) Any payment for the benefit of a physician, dentist, or other licensed health care practitioner which was made as the result of a settlement or judgment of a claim of medical malpractice, if an appropriate determination is made in accordance with Department policy that payment was related to substandard care, professional incompetence or professional misconduct on the part of the individual; (b) a final decision which relates to possible incompetence or improper professional conduct that adversely affects the clinical privileges of a physician or dentist for a period longer than 30 days; or (c) the surrender of clinical privileges or any restriction of such privileges by a physician or dentist, either while under investigation by the health care entity relating to possible incompetence or improper professional conduct. These records may also be disclosed as part of a computer matching program to accomplish these purposes.

24. VA may disclose relevant health care information to a State Veterans Home for the purpose of medical treatment and/or follow-up at the State home when VA makes payment of a per diem rate to the State home for the patient receiving care at such home, and the patient receives VA medical care.

25. VA may disclose relevant health care information to (a) a Federal agency or non-VA health care provider or institution when VA refers a patient for hospital or nursing home care or medical services, or authorizes a patient to obtain non-VA medical services, and the information is needed by the Federal agency or non-VA institution or provider to perform the services, or (b) a Federal agency or a non-VA hospital (Federal, State and local, public, or private) or other medical institution having hospital facilities, blood banks, or similar institutions, medical schools or clinics, or other groups or individuals that have contracted or agreed to provide medical services or share the use of medical resources under the provisions of 38 U.S.C. 513, 7409, 8111, or 8153, when treatment is rendered by VA under the terms of such contract or agreement, or the issuance of an authorization, and the information is needed for purposes of medical treatment and/or follow-up, determining entitlement to a benefit, or recovery of the costs of the medical care.

26. VA may disclose health care information for program review purposes and the seeking of accreditation and/or certification to survey teams of the Joint Commission, College of American Pathologists, American Association of Blood Banks, and similar national accrediting agencies or boards with which VA has a contract or agreement to conduct such reviews, but only to the extent that the information is necessary and relevant to the review.

27. VA may disclose relevant health care information to a non-VA nursing home facility that is considering the patient for admission, when information concerning the individual's medical care is needed for the purpose of preadmission screening under 42 CFR 483.20(f), to identify patients who are mentally ill or mentally retarded so they can be evaluated for appropriate placement.

28. VA may disclose information which relates to the performance of a health care student or provider to a medical or nursing school or other health care related training institution, or other facility with which VA has an affiliation, sharing agreement, contract, or similar arrangement, when the student or provider is enrolled at or employed by the school, training institution, or other facility, and the information is needed for personnel management, rating, and/or evaluation purposes.

29. VA may disclose relevant health care information to individuals, organizations, and private or public agencies with which VA has a contract or sharing agreement for the provision of health care or administrative services.

30. VA may disclose identifying information, including Social Security number of a Veteran, spouse, and dependent, to other Federal agencies for purposes of conducting computer matches to obtain information to determine, or to verify eligibility of Veterans who are receiving VA medical care under Title 38.

31. VA may disclose the name and Social Security number of a Veteran, spouse, and dependent, and other identifying information as is reasonably necessary, to the Social Security Administration, Department of Health and Human Services (HHS), for the purpose of conducting a computer match to obtain information to validate the Social Security numbers maintained in VA records.

32. VA may disclose the patient's name and relevant health care information concerning an adverse drug reaction to the Food and Drug Administration (FDA), HHS, for purposes of quality of care management, including detection, treatment, monitoring, reporting, analysis, and follow-up actions relating to adverse drug reactions.

33. VA may disclose information to Federal agencies and government-wide third-party insurers responsible for payment of the cost of medical care for the patients, in order for VA to seek recovery of the medical care costs. These records may also be disclosed as part of a computer matching program to accomplish these purposes.

34. VA may disclose information pursuant to 38 U.S.C. 7464, and notwithstanding 38 U.S.C. 5701 and 7332, to a former VA employee, as well as an authorized representative of the employee, whose case is under consideration by the VA Disciplinary Appeals Board, in connection with the considerations of the Board, to the extent the Board considers appropriate for purposes of the proceedings of the Board in that case, when authorized by the chairperson of the Board.

35. Information that a patient is infected with Hepatitis C may be disclosed by a physician or professional counselor to the spouse, the person or subject with whom the patient has a meaningful relationship, or an individual whom the patient or subject has identified as being a sexual partner of the patient or subject.

36. VA may disclose to the Federal Labor Relations Authority, including its General Counsel, information related to the establishment of jurisdiction, investigation, and resolution of allegations of unfair labor practices, or in connection with the resolution of exceptions to arbitration awards when a question of material fact is raised in matters before the Federal Service Impasses Panel.

37. VA may disclose information to officials of labor organizations recognized under 5 U.S.C. Chapter 71 when relevant and necessary to their duties of exclusive representation concerning personnel policies, practices, and matters affecting working conditions.

38. VA may disclose information to officials of the Merit Systems Protection Board, including the Office of the Special Counsel, when requested in connection with appeals, special studies of the civil service and other merit systems, review of rules and regulations, investigation of alleged or possible prohibited personnel practices, such other functions promulgated in 5 U.S.C. 1205 and 1206, or as otherwise authorized by law.

39. VA may disclose information to the Equal Employment Opportunity Commission when requested in connection with investigations of alleged or possible discrimination practices, examinations of Federal affirmative employment programs, compliance with the Uniform Guidelines of Employee Selection Procedures, or other functions of the Commission as authorized by law or regulation.

40. VA may disclose relevant health care information to health and welfare agencies, housing resources, and utility companies, possibly to be combined with disclosures to other agencies, in situations where VA needs to act quickly in order to provide basic and/or emergency needs for the patient and patient's family where the family resides with the patient or serves as a caregiver.

41. VA may disclose health care information to funeral directors or representatives of funeral homes in order for them to make necessary arrangements prior to and in anticipation of a patient's death.

42. VA may disclose health care information to the FDA, or a person subject to the jurisdiction of the FDA, with respect to FDA-regulated products for purposes of reporting adverse events, product defects or problems, or biological product deviations; tracking products; enabling product recalls, repairs, or replacement; and/or conducting post marketing surveillance.

43. VA may disclose health care information to a non-VA health care provider, such as private health care providers or hospitals, DoD, or IHS providers, for the purpose of treating VA patients.

44. VA may disclose information to telephone company operators acting in their capacity to facilitate phone calls for hearing impaired individuals, such as patients, patients' family members, or non-VA providers, using telephone devices for the hearing impaired, including Telecommunications Device for the Deaf (TDD) or Text Telephones (TTY).

45. VA may disclose information to any Federal, State, local, tribal, or foreign law enforcement agency in order to report a known fugitive felon, in compliance with 38 U.S.C. 5313B(d).

46. Relevant health care information may be disclosed by VA employees who are designated requesters (individuals who have completed a course offered or approved by an Organ Procurement Organization), or their designees, for the purpose of determining suitability of a patient's organs or tissues for organ donation to an organ procurement organization, a designated requester who is not a VA employee, or their designees acting on behalf of local organ procurement organizations.

47. VA may disclose relevant heath care information to DoD, or its components, as necessary in addressing the transition, care coordination, health care, benefits, and administrative support needs of or for wounded, ill, and injured active duty service members or reserve components, Veterans, and their beneficiaries.

48. VA may disclose information to other Federal agencies in order to assist those agencies in preventing, detecting, and responding to possible fraud or abuse by individuals in their operations and programs.

49. VA may disclose any information or records to appropriate agencies, entities, and persons when (1) VA suspects or has confirmed that there has been a breach of the system of records; (2) VA has determined that as a result of the suspected or confirmed breach there is a risk to individuals, VA (including its information systems, programs, and operations), the Federal Government, or national security; and (3) the disclosure made to such agencies, entities, or persons is reasonably necessary to assist in connection with VA efforts to respond to the suspected or confirmed breach or to prevent, minimize, or remedy such harm.

50. VA may disclose information to any third party or Federal agency, including contractors to those parties, who are responsible for payment of the cost of medical care for the identified patients, in support of VA recovery of medical care costs or for any activities related to payment of medical care costs. These records may also be disclosed as part of a computer matching program to accomplish these purposes.

51. VA may disclose relevant information to health plans, quality review and/or peer review organizations in connection with the audit of claims or other review activities to determine quality of care or compliance with professionally accepted claims processing standards.

52. VA may disclose identifying information, including name, address, and date of birth, as needed to verify the identity of an individual or to facilitate delivery of benefits or services to travel agencies, transportation carriers, or others authorized to act on behalf of VA to provide or arrange travel for examination, treatment, or care, or in connection with vocational rehabilitation or counseling services.

53. VA may disclose information to a former VA employee or contractor, as well as the authorized representative of a current or former employee or contractor of VA, in pending or reasonably anticipated litigation against the individual regarding health care provided during the period of his or her employment or contract with VA.

54. VA may disclose information to a former VA employee or contractor, as well as the authorized representative of a current or former employee or contractor of VA, in defense or reasonable anticipation of a tort claim, litigation, or other administrative or judicial proceeding involving VA when the Department requires information or consultation assistance from the former employee or contractor regarding health care provided during the period of his or her employment or contract with VA.

55. VA may disclose information to a former VA employee or contractor, as well as the authorized representative of a current or former employee or contractor of VA, in connection with or in consideration of the reporting of:

(a) Any payment for the benefit of the former VA employee or contractor that was made as the result of a settlement or judgment of a claim of medical malpractice, if an appropriate determination is made in accordance with Department policy that payment was related to substandard care, professional incompetence, or professional misconduct on the part of the individual;

(b) A final decision which relates to possible incompetence or improper professional conduct that adversely affects the former employee's or contractor's clinical privileges for a period longer than 30 days; or

(c) The former employee's or contractor's surrender of clinical privileges or any restriction of such privileges while under investigation by the health care entity relating to possible incompetence or improper professional conduct to the National Practitioner Data Bank or the State licensing board in any State in which the individual is licensed, the VA facility is located, or an act or omission occurred upon which a medical malpractice claim was based.

56. VA may disclose information to a former VA employee or contractor, as well as the authorized representative of a current or former employee or contractor of VA, in connection with or in consideration of reporting that the individual's professional health care activity so significantly failed to conform to generally accepted standards of professional medical practice as to raise reasonable concern for the health and safety of patients, to a Federal agency, a State or local government licensing board, or the Federation of State Medical Boards or a similar nongovernmental entity which maintains records concerning individuals' employment histories or concerning the issuance, retention, or revocation of licenses, certifications, or registration necessary to practice an occupation, profession, or specialty.

57. VA may disclose information to a former VA employee or contractor, as well as the authorized representative of a current or former employee or contractor of VA, in connection with investigations by the Equal Employment Opportunity Commission pertaining to alleged or possible discrimination practices, examinations of Federal affirmative employment programs, or other functions of the Commission as authorized by law or regulation.

58. VA may disclose information to a former VA employee or contractor, as well as the authorized representative of a current or former employee or contractor of VA, in proceedings before the Merit Systems Protection Board or the Office of the Special Counsel in connection with appeals, special studies of the civil service and other merit systems, review of rules and regulations, investigation of alleged or possible prohibited personnel practices, and such other functions promulgated in 5 U.S.C. 1205 and 1206, or as otherwise authorized by law.

59. VA may disclose relevant information, including but not limited to, patient name, address, and Social Security number, to a State prescription drug monitoring program (PMDP), or similar program, for the purpose of submitting to or receiving from the program information regarding prescriptions to an individual for controlled substances, as required under the applicable State law.

60. VA may disclose relevant health information to the Centers for Medicare & Medicaid Services (CMS) and/or their designee to evaluate compliance with Medicare or Medicaid health care standards.

61. VA may disclose health care information to DoD for the purpose of VA health care operations as defined in the HIPAA Privacy Rule, 45 CFR parts 160 and 164 and to the Defense Health Agency (DHA), as a health care provider, for the purpose of DHA heath care operations.

62. VA may disclose information from this system to another Federal agency or Federal entity, when VA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

63. Disclosure of Veteran identifiers and demographic information (e.g., name, social security number (SSN), address, date of birth) may be made to an organization with whom VA has a documented partnership, arrangement or agreement (e.g., Health Information Exchange (HIE), Health Information Service Provider (HISP) Direct, CommonWell Health Alliance network), for the purpose of identifying and correlating patients.

64. VA may disclose relevant health care information to the CDC and/or their designee in response to its request or at the initiation of VA, in connection with disease-tracking, patient outcomes, bio-surveillance, or other health information required for program accountability.

POLICIES AND PRACTICES FOR STORAGE OF RECORDS:

Records are maintained on paper, microfilm, electronic media including images and scanned documents, or laser optical media in the consolidated health record at the health care facility where care was rendered, in the VA Health Data Repository, at Federal Record Centers and Cerner Technology Centers. In most cases, copies of backup computer files are maintained at offsite locations. Subsidiary record information is maintained at the various respective services within the health care facility (e.g., pharmacy, fiscal, dietetic, clinical laboratory, radiology, social work, psychology) and by individuals, organizations, and/or agencies with whom VA has a contract or agreement to perform such services, as the VA may deem practicable.

POLICIES AND PRACTICES FOR RETRIEVABILITY OF RECORDS:

Records are retrieved by name, Social Security number, medical record number or other assigned identifiers of the individuals to whom they pertain.

POLICIES AND PRACTICES FOR RETENTION AND DISPOSAL OF RECORDS:

In accordance with the records disposition authority approved by the Archivist of the United States, paper records and information stored on electronic storage media are maintained for seventy-five (75) years after the last episode of patient care and then destroyed/or deleted. VHA Records Control Schedule (RCS 10-1), Chapter 6, 6000.1d (N1-15-91-6, Item 1d) and 6000.2b (N1-15-02-3, Item 3).

PHYSICAL, PROCEDURAL, AND ADMINISTRATIVE SAFEGUARDS:

1. Access to working spaces and patient medical record storage areas in VA health care facilities is restricted to authorized VA employees. Generally, file areas are locked after normal duty hours. Health care facilities are protected from outside access by the Federal Protective Service and/or other security personnel. Access to patient medical records is restricted to VA employees who have a need for the information in the performance of their official duties. Sensitive patient medical records, including employee patient medical records, records of public figures, or other sensitive patient medical records are generally stored in separate locked files or a similar electronically controlled access environment. Strict control measures are enforced to ensure that access to and disclosures from these patient medical records are limited.

2. Access to computer rooms within health care facilities is generally limited by appropriate locking devices and restricted to authorized VA employees and vendor personnel. Automated Data Processing (ADP) peripheral devices are generally placed in secure areas (areas that are locked or have limited access) or are otherwise protected. Only authorized VA employees or vendor employees may access information in the system. Access to file information is controlled at two levels: the system recognizes authorized employees by a series of individually unique passwords/codes as a part of each data message, and the employees are limited to only that information in the file that is needed in the performance of their official duties. Information that is downloaded and maintained on personal computers must be afforded similar storage and access protections as the data that is maintained in the original files. Access by remote data users such as Veteran Outreach Centers, Veteran Service Officers with power of attorney to assist with claim processing, VARO staff for benefit determination and processing purposes, OIG staff conducting official audits or investigations and other authorized individuals is controlled in the same manner.

3. Access to the VA National Data Centers is generally restricted to Center employees, custodial personnel, Federal Protective Service, and other security personnel. Access to computer rooms is restricted to authorized operational personnel through electronic locking devices. All other persons gaining access to computer rooms are escorted. Information stored in the computer may be accessed by authorized VA employees at remote locations including VA health care facilities, VA Central Office, Veterans Integrated Service Networks (VISN), and OIG Central Office and field staff. Access is controlled by individually unique passwords/codes that must be changed periodically by the employee.

4. Access to the VA Health Data Repository, located at the VA National Data Centers, is generally restricted to Center employees, custodial personnel, Federal Protective Service, and other security personnel. Access to computer rooms is restricted to authorized operational personnel through electronic locking devices. All other persons gaining access to computer rooms are escorted. Information stored in the computer may be accessed by authorized VA employees at remote locations including VA health care facilities, VA Central Office, VISNs, and OIG Central Office and field staff. Access is controlled by individually unique passwords/codes that must be changed periodically by the employee.

5. Access to records maintained at VA Central Office, the VA Boston Development Center, Chief Information Office Field Offices, and VISNs is restricted to VA employees who have a need for the information in the performance of their official duties. Access to information stored in electronic format is controlled by individually unique passwords/codes. Records are maintained in manned rooms during working hours. The facilities are protected from outside access during non-working hours by the Federal Protective Service or other security personnel.

6. Computer access authorizations, computer applications available and used, information access attempts, and frequency and time of use are recorded.

7. Access to Cerner Technology Centers is generally restricted to Cerner employees, contractors or associates with a Cerner issued ID badge and other security personnel cleared for access to the data center. Access to computer rooms housing Federal data, hence Federal enclave, is restricted to persons Federally cleared for Federal enclave access through electronic badge entry devices. All other persons, such as custodians, gaining access to Federal enclave are escorted.

RECORD ACCESS PROCEDURE:

Individuals seeking information regarding access to and contesting of VA medical records may write, call, or visit the last VA facility where medical care was provided.

CONTESTING RECORD PROCEDURES:

(See Record Access Procedures above.)

NOTIFICATION PROCEDURE:

An individual who wishes to determine whether a record is being maintained in this system under his or her name or other personal identifier, or wants to review the contents of such record, should submit a written request or apply in person to the last VA health care facility where care was rendered. Addresses of VA health care facilities may be found in VA Appendix 1 of the Biennial Publication of Privacy Act Issuances. All inquiries must reasonably describe the portion of the medical record involved and the place and approximate date that medical care was provided. Inquiries should include the patient's full name, Social Security number, and return address.

EXEMPTIONS PROMULGATED FOR THE SYSTEM:

None.

HISTORY:

Last full publication provided in 79 FR 47732 dated August 14, 2014.

Appendix 1— VA Facilities

Patients should call the telephone numbers listed to obtain clinic hours of operation and services.

For more information or to search for a facility near you by zip code, visit https://www.va.gov/find-locations.

ALABAMA

VA Medical Centers

Birmingham 35233 (700 S. 19th St., 205-933-8101 or 800-872-0328).

Montgomery 36109-3798 (215 Perry Hill Rd., 334-272-4670 or 800-214-8387).

Tuscaloosa 35404 (3701 Loop Rd., East, 205-554-2000 or 888-269-3045).

Tuskegee 36083-5001 (2400 Hospital Rd., 334-727-0550 or 800-214-8387).

Clinics

Childersburg 35044 (151 9th Ave., 256-378-9026).

Columbus 31901 (1310 13th Ave., 706-257-7205).

Bessemer 35022 (975 9th Ave., SW, Suite 400 at UAB West Medical Center West Bessemer, 205-428-3495).

Dothan 36301 (2020 Alexander Dr., 334-673-4166).

Dothan Mental Health Center 36301 (3753 Ross Clark Cir., Ste. 4, 334-678-1933).

Gadsden 35906 (206 Rescia Ave., 256-413-7154).

Guntersville 35976 (100 Judy Smith Dr., 256-582-4033).

Huntsville 35801 (301 Governor's Dr., 256-535-3100).

Jasper 35501 (3400 Highway 78 East, Suite #215, 205-221-7384).

Monroe 36460 (159 Whetstone St., 251-743-5861).

Oxford 36203 (96 Ali Way Creekside South, 256-832-4141).

Selma 36701 (206 Vaughn Memorial Dr., 334-418-4975).

Sheffield 35660 (Florence Shoals Area Clinic, 422 DD Cox Blvd., 256-381-9055).

Wiregrass 36362 (301 Andrews Ave., 334-503-7800).

Regional Office

Montgomery 36109 (345 Perry Hill Rd., statewide 1-800-827-1000).

Vet Centers

Birmingham 35233 (1500 5th Ave. S, 205-731-0550).

Mobile 36606 (2577 Government Blvd., 251-478-5906).

National Cemeteries

Alabama 35115 (731 Middle St., 205-665-9039).

Fort Mitchell 36856 (553 Hwy. 165, Fort Mitchell, 334-855-2184).

Mobile 36604 (1202 Virginia St., 850-453-4846).

ALASKA

VA Medical Center

Anchorage 99504 (1201 N Muldoon Rd., 888-353-7574/907-257-4700).

Clinics

Fort Wainwright 99703 (4076 Neeley Rd., Room 1J-101, 888-353-7574).

Juneau 99801 (709 W 9th St., Suite 150, 888-353-7574).

Kenai 99669 (240 Hospital Place, Central Peninsula Hospital, Suite 105, 888-353-7574).

Mat-Su 99654 (865 N Seward Meridian Parkway, Suite 105, 888-353-7574).

Regional Office

Anchorage 99508-2989 (2925 De Barr Rd., statewide 1-800-827-1000).

Benefits Office

Juneau 99802 (P.O. Box 20069, 907-586-7472).

Vet Centers

Anchorage 99508 (4201 Tudor Centre Dr., Suite 115, 907-563-6966).

Fairbanks 99701 (540 4th Ave., Suite 100, 907-456-4238).

Kenai 99669 (Red Diamond Ctr., Bldg. F, #4, 43335 Kalifornsky Beach Rd., 907-260-7640).

Wasilla 99654 (851 E West Point Dr., Suite 111, 907-376-4318).

National Cemeteries

Fort Richardson 99505-5498 (Building 997, Davis Hwy., 907-384-7075).

Sitka 99835 (803 Sawmill Creek Rd., 907-384-7075).

AMERICAN SAMOA

Clinic

Pago Pago 96799 (Fiatele Teo Army Reserve Bldg., Mailing Address: P.O. Box 1005, Pago Pago, AS 96799, 684-699-3730).

Benefits Office

Pago Pago 96799 (P.O. Box 1005, 684-633-5073).

ARIZONA

VA Medical Centers

Prescott 86313 (500 N Hwy. 89, 928-445-4860 or 800-949-1005).

Tucson 85723 (3601 South 6th Avenue, 520-792-1450 or 800-470-8262).

Phoenix 85012 (650 E Indian School Rd., 602-277-5551 or 800-554-7174).

Clinics

Anthem 85086 (41810 North Venture Dr., Building B, 623-249-2300).

Casa Grande 85122 (1876 East Savin Dr., Suite 15, Bldg. A, 520-836-2536).

Chinle 86503 (Highway 191 and Hospital Dr., 928-674-7675

Cottonwood 86326 (501 South Willard St., 928-649-1532).

Flagstaff 86001 (1300 West University Ave., Suite 200, 928-226-1056).

Gilbert 85297 (3285 South Val Vista Dr., 480-397-2800).

Globe 85501 (5860 S Hospital Dr., Suite 11, 928-425-0027).

Green Valley 85614 (380 W Hermosa Drive, #140, 520-399-2291).

Holbrook 86025 (33 West Vista Dr., 928-524-1050).

Kayenta 86033 (U.S. Hwy. 160, 928-445-4860 ext. 3392).

Kingman 86401 (2668 Hualapai Mtn. Rd., 928-718-7300).

Lake Havasu City 86403 (2035 Mesquite, Suite E, 928-505-7100).

Page 86040 (801 N Navajo Dr., Suite B, 928-645-4966).

Payson 85541 (903 East Highway 260, Suite 2, 928-472-3148).

Phoenix Midtown 85015 (5040 North 15th Ave., 602-234-7080).

Phoenix Southeast 85747 (7395 South Houghton Rd. Suite 129, 520-664-1831).

Phoenix Southwest 85073 (9253 West Thomas Rd., Suite 400, 623-772-4000).

Phoenix Thunderbird 85021 (9424 North 25th Ave., 602-633-6900).

Pinal 85122 (1179 East Cottonwood Lane, 520-629-4801).

Polacca 86042 (Hwy. 264, Mile Post 388, 928-283-4465).

Safford 85546 (355 North 8th Ave., 928-428-8010).

Scottsdale 85259 (11390 East Via Linda Rd., Suite 105, 480-579-2200).

Show Low 85901 (5171 Cub Lake Rd., Suite C380, 928-532-1069).

Sierra Vista 85635 (157 N Coronado Dr., 520-629-4802).

Surprise 85374 (13985 West Grand Ave., Suite 101, 623-251-2884).

Tucson Northwest 85741 (2945 West Ina Rd., 520-219-2418).

Tuba City 85045 (167 N Main St., 928-283-4465).

Yuma 85364 (3111 South 4th Ave., 928-317-9973).

Regional Office

Phoenix 85012 (3333 N. Central Ave., statewide 1-800-827-1000)—Fiduciary Duties for Arizona, California, New Mexico, Nevada (1-888-869-0194).

Vet Centers

Phoenix 85012 (77 E. Weldon Ave., Suite 100, 602-640-2981).

Phoenix-East Valley 85202 (1303 S Longmore, Suite 5, Mesa, 480-610-6727).

Prescott 86303 (161 S Granite St., Suite B, 928-778-3469).

Tucson 85719 (3055 N 1st Ave., 520-882-0333).

National Cemeteries

Nat. Mem. Cem. of AZ 85024 (23029 N Cave Creek Rd., Phoenix, 480-513-3600).

Prescott 86301 (500 Hwy. 89 N, 480-513-3600).

ARKANSAS

VA Medical Centers

Fayetteville 72703 (1100 N College Ave., 479-443-4301 or 800-691-8387).

Little Rock 72205 (4300 West 7th St., 501-257-1000).

North Little Rock 72114-1706 (2200 Fort Roots Dr., 501-257-1000).

Clinics

Conway 72032 (1520 East Dave Ward Dr., 501-548-0500).

El Dorado 71730 (1702 North West Ave., 870-875-5900).

Ft. Smith 72917 (1500 Dodson Ave., 479-441-2600).

Harrison 72601 (814 U.S. Hwy. 62-65, North Suite 8, 870-704-6300).

Hot Springs 71901 (177 Sawtooth Oak St., 501-520-6253).

Mena 71953 (300 Morrow St. South, 501-609-2700).

Mountain Home 72653 (759 Highway 62 E Twin Lakes Plaza, Suite 331, 870-594-8387).

Ozark 72949 (2713 West Commercial St., 877-760-8387).

Pine Bluff 71603 (4747 Dusty Lake Dr., 870-541-9300).

Russellville 72801 (3106 West 2nd Ct., 479-880-5100).

Searcy 72143 (1120 South Main St., 501-207-4700).

Regional Office

North Little Rock 72114 (2200 Fort Roots Dr., Bldg. 65, statewide 1-800-827-1000).

Vet Center

North Little Rock 72114 (201 W Broadway, Suite A, 501-324-6395).

National Cemeteries

Fayetteville 72701 (700 Government Ave., 479-444-5051).

Fort Smith 72901 (522 Garland Ave., 479-783-5345).

Little Rock 72206 (2523 Confederate Blvd., 501-324-6401).

CALIFORNIA

VA Medical Centers

Fresno 93703 (2615 E Clinton Ave., 559-225-6100 or 888-826-2838).

Livermore 94550 (4951 Arroyo Rd., 925-373-4700).

Loma Linda 92357 (11201 Benton St., 909-825-7084 or 800-741-8387).

Long Beach 90822 (5901 E 7th St., 562-826-8000 or 888-769-8387).

Los Angeles 90073 (11301 Wilshire Blvd., 310-478-3711 or 800-952-4852).

Sacramento 95655 (10535 Hospital Way, Mather, 800-382-8387 or 916-843-7000).

Menlo Park 94025 (795 Willow Rd., 650-416-9997).

Palo Alto 94304 (3801 Miranda Avenue, 650-493-5000 or 800-455-0057).

San Diego 92161 (3350 La Jolla Village Drive, 858-552-8585 or 800-331-8387).

San Francisco 94121 (4150 Clement Street, 415-221-4810 or 877-487-2838).

Clinics

Anaheim 92801 (2569 West Woodland Dr., 714-763-5300).

Arcadia 91006 (7 North Foothill Blvd., Suite D, 818-672-2800).

Atwater 95301-5140 (3605 Hospital Road, Suite D, 209-381-0105).

Auburn 95603 (11985 Heritage Oaks Place, Suite 100, 530-889-0872).

Bakersfield 93301 (1801 Westwind Dr., 661-632-1800).

Blythe 92225 (1273 West Hobson Way, 760-921-1224).

Brawley 92227 (Imperial Valley, 528 G St., 760-344-9085).

Capitola 95010-3906 (1350 N 41st St., Suite 102, 831-464-5519).

Chico 95928 (1601 Concord Ave., 530-879-5000).

Chula Vista 91911 (835 3rd Ave., Suite 133 and 112, 619-409-1600).

Clearlake 95422 (15145 Lakeshore Dr., 707-995-7200).

Commerce 90022 (East Los Angeles, 5426 E Olympic Blvd., 323-725-7372).

Corona 92881 (2045 Compton Ave., Bldg. 7, Suite 101, 951-817-8820).

El Centro 92243 (1115 South 4th St., 760-352-1506).

Escondido 92025 (815 E Pennsylvania Ave., 760-466-7020).

Eureka 95503 (930 West Harris St., 707-269-7500).

Fairfield 94535 (103 Bodin Cir., Bldg. 778 Travis Air Force Base, 707-437-1800).

Fremont 94538 (39199 Liberty St., Bldg. B, 510-791-4000).

French Camp 95231 (Stockton Clinic, 7777 South Freedom Dr., 209-946-3400).

Gardena 90247 (1251 Redondo Beach Blvd., 3rd Floor, 310-851-4705).

Laguna Hills 92653 (23719 Moulton Parkway, 949-587-3700).

Lancaster 93535 (Antelope Valley, 340 East Ave. I, Suite 108, 661-729-8655).

Long Beach 90806 (Villages at Cabrillo 2001 River Ave., Bldg. 28, 562-388-8000).

Los Angeles 90012 (351 East Temple St., 213-253-5000).

Los Angeles 90073 (West LA Ambulatory Care, 11301 Wilshire Blvd., 310-268-3526).

Lynwood 90262 (3737 Martin Luther King Blvd., Suite 515, 310-537-6825).

Mare Island 94592 (201 Walnut Ave., Bldg. 201, 707-562-8200).

Martinez 94553 (150 Muir Rd., 925-372-2000).

Marina 93933 (201 9th St., 831-884-1000).

McClellan Park 95652 (5342 Dudley Blvd., Bldg. 88, 916-561-7400).

Merced 95340 (340 East Yosemite Ave., Suite D, 209-381-0105).

Modesto 95355 (1225 Oakdale Rd., 209-557-6200).

Monterey 93955 (3401 Engineer Lane, Seaside, 831-883-3800).

Murietta 92563 (28078 Baxter Rd., Suite 540, 951-290-6500).

North Hills 91343 (Sepulveda Clinic and Nursing Home, 16111 Plummer St., 818-891-7711 or 800-516-4567).

Oakhurst 93644 (40597 Westlake Dr., 559-683-5300).

Oakland 94612 (525 21st St., 510-587-3400).

Oakland 94612 (2221 Martin Luther King Jr. Way, 510-267-7800).

Oceanside 92056 (1300 Rancho del Oro Dr., 760-643-2000).

Oxnard 93030 (1690 Universal Circle Dr., 805-204-9135).

Palm Desert 92211 (41-990 Cook St., Bldg. F, Suite 1004, 760-341-5570).

Rancho Cucamonga 91730 (8599 Have Ave., Suite 102, 909-946-5348).

Redding 96002 (351 Hartnell Ave., 530-226-7555).

Redlands 92373 (26001 Redlands Blvd., 909-825-7084).

Sacramento 95655 (Mental Health Clinic at Mather, 10633 Grissom Rd., 800-382-8387 or 916-366-5420).

Sacramento 95652 (McClellan Dental Clinic, 5401 Arnold Ave., 800-382-8387 or 916-561-7800).

Sacramento 95652 (McClellan Outpatient Clinic, 5342 Dudley Blvd., 800-382-8387 or 916-561-7400).

San Bruno 94066 (1001 Sneath Lane, Suite 300, 650-615-6000).

San Diego 92108 (Mission Valley Clinic, 8810 Rio San Diego Dr., 619-400-5000).

San Diego 92108 (Rio Clinic, 8989 Rio San Diego Dr., Suite 360, 619-228-8000).

San Francisco 94107 (Downtown Clinic, 401 3rd St., 415-551-7300).

San Gabriel 91776 (Pasadera, 420 W. Las Tunas Drive, 626-289-5973).

San Jose 95138 (5855 Silver Creek Valley Place, 408-574-9100).

San Luis Obispo 93401 (Pacific Med. Plaza, 1288 Morro St., Ste. 200, 805-543-1233).

Santa Ana 92705 (1506 Brookhollow Dr., Suite 100, 714-825-3500).

Santa Barbara 93110 (4440 Calle Real, 805-683-1491).

Santa Fe Springs 90670 (10330 Pioneer Blvd., Suite 180, 562-347-2200).

Santa Maria 93454 (1550 East Main St., 805-354-6000).

Santa Rosa 95403 (3841 Brickway Blvd., 707-569-2300).

Sepulveda 91343 (16111 Plummer St., 818-891-7711).

Sonora 95370 (13663 Mono Way, 209-588-2600).

Stockton 95231 (7777 South Freedom Rd., 209-946-3400).

Sun City 92586 (28125 Bradley Road, Suite 130, 951-672-1931).

Tulare 93274 (1050 N Cherry St., 559-684-8703).

Ukiah 95482 (630 Kings Court, 707-468-7700).

Upland 91786 (1238 E Arrow Highway, No. 100, 909-946-5348).

Vallejo 94592 (Mare Island Clinic, 201 Walnut Ave., 800-382-8387 or 707-562-8200).

Victorville 92392 (12138 Industrial Boulevard, Suite 120, 760-951-2599).

Vista 92083 (1840 West Drive, 760-643-2000).

Yreka 96097 (101 East Oberlin Rd., 530-841-8500).

Yuba City 95991 (425 Plumas Blvd., 530-751-4500).

Regional Offices

Los Angeles 90024 (Fed. Bldg., 11000 Wilshire Blvd., serving counties of Inyo, Kern, Los Angeles, San Bernardino, San Luis Obispo, Santa Barbara and Ventura, statewide 1-800-827-1000).

Oakland 94612 (1301 Clay St., Rm. 1300 North, serving all CA counties not served by the Los Angeles, San Diego, or Reno VA Regional Offices, 1-800-827-1000).

San Diego 92108 (8810 Rio San Diego Dr., serving Imperial, Orange, Riverside and San Diego, statewide 1-800-827-1000). The counties of Alpine, Lassen, Modoc, and Mono are served by the Reno, NV, Regional Office.

Benefits Office

Sacramento 95827 (10365 Old Placerville Rd., 916-364-6500).

Vet Centers

Anaheim 92805 (859 S Harbor Blvd., 714-776-0161).

Chico 95926 (280 Cohasset Rd., Suite 100, 530-899-8549).

Concord 94520 (1899 Clayton Rd., Suite 140, 925-680-4526).

Corona 92879 (800 Magnolia Ave., 110, 951-734-0525).

East Los Angeles 90022 (5400 E. Olympic Blvd., 140, 323-728-9966).

Eureka 95501 (2830 G St., Suite A, 707-444-8271).

Fresno 93726 (3636 N 1st St., Suite 112, 559-487-5660).

Gardena 90247 (1045 W Redondo Beach Blvd., 150, Gardena, 310-767-1221).

West Los Angeles 90230 (5730 Uplander Way, Suite 100, Culver City, 310-641-0326).

Modesto 95351 (1219 N Carpenter Rd., #11 & 12, 209-527-1359 or 209-527-5961).

Oakland 94612 (1504 Franklin St., 200, 510-763-3904).

Redwood City 94062 (2946 Broadway St., 650-299-0672).

Rohnert Park 94928 (6225 State Farm Dr., Suite 101, 707-586-3295).

Sacramento 95825 (1111 Howe Ave., Suite 390, 916-566-7430).

San Bernardino 92408 (155 West Hospitality Lane, Suite 140, 909-890-0797).

San Diego 92103 (2900 6th Ave., 619-294-2040).

San Francisco 94102 (505 Polk St., 415-441-5051).

San Jose 95112 (278 N 2nd St., 408-993-0729).

San Marcos 92069 (1 Civic Center Dr., Suite 140, 760-744-6914).

Santa Cruz 95010 (1350 41st Ave., Suite 102, 831-464-4575).

Sepulveda 91343 (9737 Haskell Ave., 818-892-9227).

Ventura 93001 (790 E Santa Clara, Suite 100, 805-585-1860).

National Cemeteries

Bakersfield 93203 (30338 East Bear Mountain Blvd., 661-867-2253 or 866-632-1845).

Fort Rosecrans 92106 (P.O. Box 6237, Point Loma, San Diego, 619-553-2084).

Golden Gate 94066 (1300 Sneath Ln., San Bruno, 650-589-7737).

Los Angeles 90049 (950 South Sepulveda Blvd., 310-268-4675).

Miramar 92122 (5795 Nobel Drive, 858-658-7360).

Riverside 92518 (22495 Van Buren Blvd., 951-653-8417).

Sacramento Valley VA 95620 (5810 Midway Rd., Dixon, 707-693-2460).

San Francisco 94129 (1 Lincoln Blvd., Presidio of San Francisco, 650-589-7737).

San Joaquin Valley 95322 (32053 West McCabe Rd., Santa Nella, 209-854-1040).

COLORADO

Medical Centers

Aurora 80045-7211 (1700 North Wheeling Street, 303-399-8020).

Grand Junction 81501-6428 (2121 North Avenue, 970-242-0731).

Domiciliaries

Denver 80220 (1055 Clermont Street, 303-399-8020).

VHA Office of Community Care/Health Administration Center

Denver 80209 (3773 Cherry Creek North Dr., 303-331-7500 or 800-733-8387).

Clinics

Alamosa 81101-8548 (622 Del Sol Drive, 719-587-6800 or 1-866-659-0930).

Aurora 80012-3697 (13701 E Mississippi Ave., Suite 200, 303-398-6340).

Aurora 80012-5689 (14400 E Jewell Ave., 303-283-5400).

Burlington 80807-1756 (1177 Rose Avenue, 719-346-5239).

Colorado Springs 80907-4094 (3141 Centennial Blvd., 719-327-5660).

Craig 81625-2945 (1111 West Victory Way, Centennial Mall, Suite 116, 970-824-6712).

Denver 80220-3901 (4545 East 9th Ave., Physician Office Bldg. 1, Suite 010, 303-327-7000).

Denver 80205-3540 (3836 York St., Community Resource & Referral Center, 720-501-3367).

Durango 81301-5025 (1970 East Third Ave., Suite 102, 970-247-2214).

Fort Collins 80526-8108 (2539 Research Blvd., 970-224-1550).

Glenwood Springs 81601-4181 (2425 South Grand Ave., Suite 101, 970-945-1007).

Golden 80401-6002 (1020 Johnson Rd., 303-914-2680).

La Junta 81050-2772 (1100 Carson Ave., Suite 204, 719-383-5195).

Lakewood 80227-5006 (7350 West Eastman Place, 720-376-6100).

Lamar 81052-9525 (1401 South Main St., Suite B, 719-336-0315).

Loveland 80538-8852 (5200 Hahns Peak Dr., 970-962-4900).

Montrose 81401-3651 (154 Colorado Ave., Suite A, 970-249-7791).

Pueblo 81008-1667 (4776 Eagleridge Circle, 719-553-1000).

Salida 81201-9669 (920 Rush Dr., 719-539-8666).

Sterling 80751-2345 (Northeastern Junior College, 100 College Dr., 307-778-755, x3816).

Regional Office

Denver 80225 (Mailing Address P.O. Box 25126. Physical Address 155 Van Gordon St., Lakewood, 80228, statewide 1-800-827-1000)—Fiduciary Duties for Alaska, Colorado, Idaho, Montana, Oregon, Utah, Washington, Wyoming (1-888-349-7541).

Vet Centers

Boulder 80302 (2336 Canyon Blvd., Suite 103, 303-440-7306).

Colorado Springs 80903 (416 E. Colorado Ave., 719-471-9992).

Denver 80230 (7465 E First Ave., Ste. B, 303-326-0645).

Grand Junction 81505 (2472 F. Rd., Unit 16, 970-245-4156).

National Cemeteries

Fort Logan 80236 (4400 W Kenyon Ave., Denver, 303-761-0117).

Fort Lyon 81504 (15700 County Road HH, Las Animas, 303-761-0117).

Pikes Peak 80925 (10545 Drennan Road, 719-216-1025).

CONNECTICUT

VA Medical Centers

Newington 06111-2631 (555 Willard Ave., 860-666-6951).

West Haven 06516-2770 (950 Campbell Avenue, 203-932-5711).

Clinics

Danbury 06810-5000 (7 Germantown Rd., Suite 2B, 203-798-8422).

New London 06320-4956 (4 Shaw's Cove, 1st Floor, Suite 101, 860-437-3611).

Stamford 06905-5315 (1275 Summer St., Suite 102, 203-325-0649).

Waterbury 06706-1113 (95 Scovill St., 203-465-5292).

West Haven 06516-2043 (114 Orange Ave., 203-479-8000).

Willimantic 06226-1940 (1320 Main St., 860-450-7583).

Winsted 06908-1140 (115 Spencer St., 860-738-6985).

Regional Office

Hartford (Bldg. 2E Rm., 5137, 555 Willard Ave., Newington, 06111-2693, statewide 1-800-827-1000).

Vet Centers

Wethersfield 06109 (30 Jordan Lane, 860-563-2320).

Norwich 06360 (2 Cliff St., 860-887-1755).

West Haven 06516 (141 Captain Thomas Blvd., 203-932-9899).

DELAWARE

VA Medical Center

Wilmington 19805-4917 (1601 Kirkwood Highway, 302-994-2511 or 800-461-8262).

Clinics

Dover 19904-6930 (1198 South Governors Ave., Suite 201, 800-461-8262, x2400).

Georgetown 19947-2300 (21748 Roth Ave., 800-461-8262, x2300).

Regional Office

Wilmington 19805 (1601 Kirkwood Hwy., local 302-994-2511).

Vet Center

Wilmington 19805 (1601 Kirkwood Hwy., Bldg. 3, 302-994-1660).

DISTRICT OF COLUMBIA

VA Medical Center

Washington 20422-0001 (50 Irving Street NW, 202-745-8000 or 888-553-0242).

Clinic

Washington 20032-3428 (820 Chesapeake Street SE, 202-745-8685).

Washington 20018-2000 (1500 Franklin Street NE, Community Resource & Referral Center, 202-636-7660).

Regional Office

Washington, DC 20421 (1722 I St. NW, local, 1-800-827-1000).

Vet Center

Washington, DC 20011 (1253 Taylor St., NW, 202-726-5212).

FLORIDA

VA Medical Centers

Bay Pines 33744-8200 (10000 Bay Pines Blvd., 727-398-6661 or 888-820-0230).

Gainesville 32608-1135 (1601 SW Archer Rd., 352-376-1611 or 800-324-8387).

Lake City 32025-5808 (619 S. Marion Avenue, 386-755-3016 or 800-308-8387).

Miami 33125-1624 (1201 NW 16th St., 305-575-7000 or 888-276-1785).

Orlando 32827-5812 (13800 Veterans Way, 407-631-1000).

Tampa 33612-4745 (13000 Bruce B. Downs Blvd., 813-972-2000 or 888-716-7787).

West Palm Beach 33410-6400 (7305 N. Military Trail, 561-422-8262 or 800-972-8262).

Clinics

Boca Raton 33433-2300 (901 Meadows Rd., 561-416-8995).

Bradenton 34208-5526 (5520 State Route 64, Suite 101, 941-721-0649.

Brooksville 34613-6001 (14540 Cortez Blvd., Suite 108, 352-597-8287).

Clermont 34711-1968 (805 Oakley Seaver Drive, (352-536-8200 or 800-645-6895).

Cape Coral 33909-5422 (2489 Diplomat Parkway East, 239-652-1800).

Daytona Beach 32114-1495 (551 National Health Care Dr., 386-323-7500).

Daytona Beach 32114-1230 (1821 Business Park Blvd., 386-366-6700).

Deerfield Beach 33442-7690 (2100 SW 10th St., 954-570-5572).

Delray Beach 33445-6597 (4800 Linton Blvd., Building E, Suite E 300, 561-495-1973).

Deltona 32725-6386 (1200 Deltona Boulevard, Suite 41-47, 386-575-5000).

Elgin AFB 32542-1038 (100 Veterans Way, 850-609-2600).

Fort Pierce 34947-4711 (1901 South 25th St., Suite 103, 772-595-5150).

Gainesville 32608-9608 (5571 Southwest 64th St., 352-337-4900).

Gainesville 32608-9608 (5533 Southwest 64th St., 352-274-5967).

Gainesville 32608-9605 (5415 Southwest 64th St., 352-338-4900, x161200).

Gainesville 32601-4034 (620 Northwest 16th St., Suite I and II, 352-548-6000).

Gainesville 32609-3568 (825 Northwest 23rd Ave., 352-548-6000 x215263).

Gainesville 32606-5010 (3401 Northwest 98th St., 352-376-1611, x137090).

Hollywood 33021-1811 (3702 Washington St., Suite 201, 954-986-1811).

Hollywood 33024-2776 (7369 Sheridan St., Suite 102, 954-894-1668).

Homestead 33030-4443 (950 Krome Avenue, Suite 401, 305-248-0874).

Jacksonville 32209-6525 (1536 North Jefferson St., 877-870-5048 or 904-475-5800).

Jacksonville 32216-4312 (3901 University Boulevard South, 904-475-5800).

Jacksonville 32216-6185 (6900 Southpoint Dr. North, 904-470-6900).

Key Largo 33037-3010 (105662 Overseas Highway, 305-451-0164).

Key West 33040-4536 (1300 Douglas Circle, Building L-15, 305-293-4863).

Kissimmee 34741-2342 (2285 North Central Ave., 407-518-5004).

Lake City 32025-1588 (484 South West Commerce Dr., Westfield 2 Plaza, Suite 140, 386-754-3000).

Lakeland 33811-1442 (4237 South Pipkin Rd., 863-701-2470).

Lecanto 34461 (2804 West Marc Knighton Court, Suite A, 352-746-8000).

Marianna 32446-6802 (4970 Highway 90, 850-718-5620 or 866-512-8387).

Miami 33135-2209 (1492 West Flagler St., Suite 102, 305-541-5864).

Naples 34102-5402 (800 Goodlette Road North, Suite 120, 239-659-9188).

New Port Richey 34654-3419 (9912 Little Road, 727-869-4100).

New Port Richey 34654-5403 (7701 Little Road, 727-869-4100).

New Port Richey 34668-2213 (110210 U.S. Highway 19 North, Suite 102, 727-863-1035).

New Port Richey 34653-7027 (5138 Deer Park Blvd., Suite 101 and 102, 727-372-1481).

Ocala 34470-6856 (1515 East Silver Springs Blvd., Suite 226, 352-369-3320).

Ocala 34474-7843 (3307 Southwest 26th Ave., 352-861-3940).

Okeechobee 34972-1936 (1201 North Parrot Avenue, 863-824-3232).

Orlando 32803-8208 (5201 Raymond Street, 407-646-5500).

Palatka 32177-2449 (400 North State Road 19, Suite 48, 386-329-8800).

Palm Harbor 34684-1908 (35209 U.S. Highway 19 North, 727-734-5276).

Panama City Beach 32408-7186 (2600 Veterans Way, 850-636-7000 or 888-231-5047, x7331).

Panama City Beach 32407-2512 (140 Richard Jackson Blvd., 850-636-7000).

Pensacola 32537-1000 (790 Veterans Way, 850-912-2000).

Perry 32347-2117 (1224 North Peacock Ave., 850-223-8387).

Port Charlotte 33952-9254 (4161 Tamiami Trail, Suite 401, 941-235-2710).

Port Orange 32129-2319 (3731 South Clyde Morris Blvd., 386-763-8300).

Port Saint Lucie 34986-3496 (128 Southwest Chamber Court, 772-878-7876).

Riverview 33579-7210 (12920 Summerfield Crossing Blvd., 813-998-8600).

Sarasota 34233-1540 (5682 Bee Ridge Rd., Suite 100, 941-371-3349).

Sebring 33870-2117 (5901 U.S. Highway 27 South, 863-471-6227).

St. Augustine 32086-5134 (195 Southpark Blvd., 904-829-0814 or 866-401-8387).

St. Petersburg 33705-1214 (840 Dr. MLK Jr. Street North, 727-502-1700).

Stuart 34997-5059 (3501 Southeast Willoughby Boulevard, 772-288-0304).

Sunrise 33351-4325 (9800 West Commercial Blvd., 954-475-5500).

Tallahassee 32311-6144 (2181 East Orange Avenue, 850-878-0191 or 800-541-8387).

Tampa 33637-1003 (13515 Lake Terrace Lane, 813-998-8000).

Tampa 33612-9998 (14014 North 46th Street, 813-972-2000, x6291).

Tampa 33617-3442 (10770 North 46th St., Suite 200, 813-972-7551).

Tampa 33613-2755 (14517 Bruce B. Downs Blvd., 813-228-2761, x7122).

Tampa 33612-9211 (12210 Bruce B. Downs Blvd., 813-972-2000, x5801.

Tavares 32778-4305 (1390 East Burleigh Blvd., 352-253-2900).

The Villages 32162-5884 (8900 Southeast 165th Mulberry Ln., 877-649-0024 or 352-674-5000).

Vero Beach 32960-5690 (372 17th Street, 772-299-4623).

Viera 32940-8007 (2900 Veterans Way, 321-637-3788).

Winter Park 32792-5313 (925 South Semoran Blvd., Suite 112, 114 and 120, 407-621-2600).

Zephyrhills 33542-6648 (6937 Medical View Ln., 813-780-2550)

Regional Office

St. Petersburg 33708 (mailing address: P.O. Box 1437, 33731; physical address: 9500 Bay Pines Blvd., statewide 1-800-827-1000)—Fiduciary Duties for Alabama, Florida, Mississippi, Puerto Rico, U.S. Virgin Islands (1-888-611-8916).

Benefits Offices

Fort Lauderdale 33301 (VR&E, 299 East Broward Blvd., Room 324, 1-800-827-1000).

Jacksonville 32256 (VR&E, 7825 Baymeadows Way, Suite 120-B, 1-800-827-1000).

Orlando 32801 (1000 Legion Pl., VRE-Suite 1500, C&P-Suite 1550, 1-800-827-1000).

Pensacola 32533-7492 (C&P, 312 Kenmore Rd., Rm. 1G253, 1-800-827-1000).

West Palm Beach 33410 (C&P, 7305 North Military Tr., Suite 1A-167, 1-800-827-1000).

Vet Centers

Ft. Lauderdale 33304 (713 NE 3rd Ave., 954-356-7926).

Gainesville 32607 (105 NW 75th St., Suite 2, 352-331-1408).

Jacksonville 32202 (300 East State St., 904-232-3621).

Melbourne 32935 (2098 Sarno Rd., 321-254-3410).

Miami 33122 (8280 NW 27th St., Suite 511, 305-859-8387).

Orlando 32822 (5575 S. Semoran Blvd., Suite 36, 407-857-2800).

Palm Beach 33461 (2311 10th Ave., North 13, 561-585-0441).

Pensacola 32531 (4501 Twin Oaks Dr., 850-456-5886).

Sarasota 34231 (4801 Swift Rd., 941-927-8285).

St. Petersburg 33713 (2880 1st Ave., N, 727-893-3791).

Tallahassee 32303 (548 Bradford Rd., 850-942-8810).

Tampa 33604 (8900 N Armenia Ave., Ste. 312, 813-228-2621).

National Cemeteries

Barrancas 32538-1054 (80 Hovey Rd., Naval Air Station, Pensacola, 850-453-4846).

Bay Pines 33504-0477 (10000 Bay Pines Blvd., North Bay Pines, 727-398-9426).

Cape Canaveral 32754 (5525 U.S. Highway 1, 321-383-2638).

Florida 33513 (6502 SW 102nd Ave., Bushnell, 352-793-7740).

Jacksonville 32202 (300 N Hogan St.).

St. Augustine 32084 (104 Marine St., 352-793-7740).

Sarasota 34241 (9810 State Road 72, 877-861-9840).

South Florida 33467 (6501 South State Road 7, Lake Worth, 561-649-6489).

Tallahassee 32311 (5015 Apalachee Parkway, 850-402-8941).

GEORGIA

Medical Centers

Augusta 30904-6258 (One Freedom Way, 706-733-0188 or 800-836-5561).

Augusta 30904-2608 (950 15th St., 706-733-0188).

Decatur 30033-4004 (1670 Clairmont Road, 404-321-6111).

Dublin 31021-3620 (1826 Veterans Blvd., 478-272-1210 or 800-595-5229).

Clinics

Albany 31704-1130 (814 Radford Blvd., c/o Naval Branch Health Clinic, Building 700, 229-446-9000).

Athens 30601-6352 (9249 Highway 29 South, 706-733-0188, x5511).

Atlanta 30310-5110 (1701 Hardee Ave., Southwest, Community Resource & Referral, 404-321-6111, x 2222).

Atlanta 30345-2914 (2309 Parklake Dr., Northeast, 404-321-6111).

Atlanta 30345-2739 (2296 Henderson Mill Road, Suite 402, 404-321-6111).

Austell 30106-6828 (2041 Mesa Valley Way, Suite 185, 404-329-2222).

Blairsville 30512-8599 (1294 Highway 515, East, Suite 100, 404-321-6111).

Brookhaven 30329-1044 (3101 Clairmont Road Northeast, 404-321-3111).

Brunswick 31525-7932 (1111 Glynco Parkway, Bldg. 2, Suite 200, 912-261-2355 or 800-595-5229).

Carrollton 30117-2425 (180 Martin Dr., 678-423-4970).

College Park 30349-6055 (1800 Phoenix Blvd., Suite 100, 404-321-6111).

Columbus 31901-2335 (1310 13th Ave., 706-257-7205).

Covington 30014-3805 (10155 Eagle Drive, 404-321-6111).

Decatur 30030-2115 (253 North Arcadia Ave., 404-321-6111).

East Point 30344-6948 (1513 Cleveland Ave., Buggy Works Office Park, Building 300, 404-329-2222).

East Point 30344-6948 (2675 North Martin St., South Central Station, Building 700, 404-321-6111, x5685).

Flowery Branch 30542-2816 (4175 Tanners Creek Drive, 404-728-8210).

Fort Benning 31905-5602 (6635 Bass Road, Bldg. 9214, 706-257-7200).

Hinesville 31313-2804 (500 East Oglethorpe Highway, 912-408-2900).

Jasper 30143-1926 (934 East Church St., 404-321-6111.

Kathleen 31047-5400 (2370 South Houston Lake Road, 478-224-1309).

Lawrenceville 30043-5937 (1970 Riverside Pkwy, 404-321-6111).

Lawrenceville 30046-8766 (455 Philip Blvd., Suite 200, 404-329-2222).

Macon 31220-8118 (5566 Thomaston Road, 478-476-8868).

Marietta 30062-2957 (2217 Roswell Road, Suite 114, 404-321-6111).

Milledgeville 31061-4807 (2249 Vinson Highway Southeast, 478-414-4540).

Newnan 30265-2392 (39-A Oak Hill Ct., 404-329-2222).

Rome 30161-7201 (30 Chateau Drive Southeast, 404-329-2222).

Savannah 31419-1618 (1170 Shawnee Street, (912-920-0214).

St. Marys 31558-3843 (2603 Osbourne Road, Kings Bay Village, Ste E, 912-510-3420).

Smyrna 30080-8581 (2400 Herodian Way Southeast, 404-321-6111).

Statesboro 30458-4828 (658 Northside Drive East, Suite B, 912-871-8719).

Stockbridge 30281-5038 (175 Medical Blvd., 404-329-2222).

Tifton 31794-3441 (1824 Ridge Avenue North, 229-391-6080).

Valdosta 31602-1890 (2841 North Patterson Street, 229-293-0132).

Waycross 31501-8016 (515B City Boulevard, City Square Plaza, 877-843-6570, x724400).

Regional Office

Decatur 30033 (1700 Clairmont Rd., statewide 1-800-827-1000)—Fiduciary Duties for Georgia, North Carolina, South Carolina, Tennessee (1-888-768-2132).

Vet Centers

Atlanta 30324 (1440 Dutch Valley Place, Suite G, 404-347-7264).

Macon 31201 (750 Riverside Dr., 478-272-1210 ext. 3883/4).

Savannah 31406 (8110A White Bluff Rd., 912-652-4097).

National Cemeteries

Georgia 30114 (2025 Mt. Carmel Church Lane, Canton, 866-236-8159).

Marietta 30060 (500 Washington Ave., 866-236-8159).

GUAM

Clinic

Agana Heights 96910-6427 (498 Chalan Palasyo, 671-475-5760).

Benefits Office/Vet Center

Hagatna 96910 (Reflection Center, #201, 222 Chalan Santo Papa St., 671-472-7161).

HAWAII

Medical Center

Honolulu 96819-1522 (459 Patterson Road, E Wing, 808-433-0600 or 800-214-1306).

Clinics

Ewa Beach 96706 (91-2135 Fort Weaver Road, Suite 501, 808-214-1306).

Hilo 96720 (1285 Waianuenue Avenue, Suite 211, 808-935-3781).

Honolulu PTSD 96819 (3375 Koapaka Street, Suite I-560, 808-566-1546).

Kahului 96732 (203 Ho'ohana Street, Suite 303, 808-871-2454).

Kailua-Kona 96740 (35-377 Hualalai Road, 808-329-0774).

Kaunakakai 96748 (280 Home Olu Place, 808-553-3191).

Lanai City 96783 (628-B Seventh Street, 808-565-6423).

Lihue 96766 (4485 Pahe'e Street, Suite 150, 808-246-0497).

Regional Office

Honolulu 96819-1522 (459 Patterson Rd., E Wing. Mailing address: P.O. Box 29020, Honolulu, HI 96820) (toll-free from Hawaii, Guam, Saipan, Rota and Tinian, 1-800-827-1000; toll-free from American Samoa, 1-877-899-4400)—Fiduciary Duties for Hawaii, Guam, American Samoa, Commonwealth of the Northern Marianas (1-808-433-0481).

VR&E Benefits Offices

Hilo 96720 (1285 Waianuenue, 2nd Floor, 808-935-6691).

Kahului 96732 (203 Ho'ohana St., 808-873-9426).

Vet Centers

Hilo 96720 (120 Pu'uhonu St., Suite 2, 808-969-3833).

Honolulu 96814 (1680 Kapiolani Blvd., Suite F.3, 808-973-8387).

Kailua-Kona 96740 (Hale Kui Plaza, Suite 207, 73-4976 Kamanu St., 808-329-0574).

Lihue 96766 (3-3367 Kuhio Hwy., Suite 101, 808-246-1163).

Wailuku 96793 (35 Lunalilo, Suite 101, 808-242-8557).

National Cemetery

Nat. Cem. of the Pacific 96813-1729 (2177 Puowaina Dr., Honolulu, 808-532-3720).

IDAHO

Medical Center

Boise 83702 (500 West Fort Street, 208-422-1000).

Clinics

Caldwell 83605 (4521 Thomas Jefferson Drive, 208-454-4820).

Coeur d'Alene 83814 (915 West Emma Avenue, 208-665-1700).

Grangeville 83850 (711 West North Street, 208-983-4671).

Idaho Falls 83401 (640 South Woodruff, 208-522-2922).

Lewiston 83501 (1630 23rd Avenue, Bldg. 2, 208-746-7784).

Mountain Home 83647 (815 North 6th East, 208-580-2001).

Pocatello 83201 (500 South 11th Avenue, 208-232-6214).

Salmon 83467 (705 Lena Street, 208-756-8515).

Sandpoint 83864 (420 North 2nd Avenue, Suite 200, 208-263-0450).

Twin Falls 83301 (260 2nd Avenue East, 208-732-0959).

Regional Office

Boise 83702 (805 W Franklin St., statewide, 1-800-827-1000).

Vet Centers

Boise 83705 (5440 Franklin Rd., Suite 100, 208-342-3612).

Pocatello 83201 (1800 Garrett Way, 208-232-0316).

National Cemetery

Snake River Canyon 83316 (1585 East Elm Street (E 4150 N), 208-732-7499).

ILLINOIS

VA Medical Centers

Chicago 60612 (820 South Damen Avenue, 312-569-8387 or 888-569-5282).

Danville 61832-5198 (1900 East Main Street, 217-554-3000).

Hines 60141 (5000 South 5th Avenue, 708-202-8387).

Marion 62959 (2401 West Main Street, 618-997-5311).

North Chicago 60064 (3001 Green Bay Road, 847-688-1900).

Clinics

Bourbonnais 60914 (581 William Latham Drive, Suite 301, 815-932-3823).

Carbondale 62901 (1130 East Walnut Street, 618-351-1031).

Chicago 60620 (7731 South Halsted Street, 773-962-3700).

Chicago 60611 (211 East Ontario Street, 12th Floor, 312-469-4850).

Chicago Heights 60411 (30 E. 15th Street, Suite 314, 708-754-8880).

Decatur 62522 (792 North Sunnyside Road, 217-362-5442).

Effingham 62401 (1011 Ford Avenue, 217-347-7600).

Evanston 60202 (1942 Dempster Street, 847-869-6315).

Freeport 61032 (750 Kiwanis Drive, Suite 253, 815-235-4881).

Galesburg 61401 (310 Home Blvd., 309-343-0311).

Great Lakes 60088 (3350 Illinois Street, 847-688-5568).

Great Lakes 60088 (3420 Illinois Street, 847-688-6755).

Great Lakes 60088 (3440 Ohio Street, 847-688-2100).

Great Lakes 60088 (2410 Sampson Street, 847-688-6712).

Great Lakes 60088 (2470 Sampson Street, 847-688-2469).

Harrisburg 62946 (608 Rollie Moore Drive, 618-252-6150).

Hoffman Estates 60192 (4885 Hoffman Blvd., 847-645-1443).

Joliet 60432 (1201 Eagle Street, 815-740-8100).

Marion 62959 (1301 Enterprise Way, Suite 68, 618-993-1008).

Marion 62959 (3404 Heartland Street).

Mattoon 61938 (501 Lakeland Blvd., 217-258-3370).

McHenry 60050 (3715 Municipal Drive, 815-759-2306).

Mt. Vernon 62864 (4105 North Water Tower Place, 618-246-2910).

North Aurora 60542 (161 South Lincolnway, 630-859-2534).

Oak Lawn 60453 (10201 South Cicero, 708-499-3675).

Peoria 61615 (7717 North Orange Prairie Road, 309-589-6800).

Peru 61354 (4461 North Progress Blvd., 815-223-9678).

Quincy 62301 (6020 Broadway, 217-224-3366).

Rockford 61107 (816 Featherstone Road, 815-227-0081).

Shiloh 62269 (1190 Fortune Blvd., 314-286-6988).

Springfield 62703 (5850 South 6th Street, Suite A, 217-529-5046).

Sterling 61081 (406 Avenue C, 815-632-6200).

Regional Office

Chicago 60612 (2122 W Taylor St., statewide 1-800-827-1000).

Vet Centers

Chicago 60620 (7731 S Halsted St., Suite 200, 773-962-3740).

Chicago Heights 60411 (1600 S Halsted St., 708-754-0340).

East St. Louis 62203 (1265 N 89th St., Suite 5, 618-397-6602).

Evanston 60202 (565 Howard St., 847-332-1019).

Moline 61265 (1529 46th Ave., 6, 309-762-6954).

Oak Park 60302 (155 S Oak Park Blvd., 708-383-3225).

Peoria 61603 (3310 N Prospect Rd., 309-671-7300).

Springfield 62702 (624 S 4th St., 217-492-4955).

National Cemeteries

Abraham Lincoln 60421 (27034 South Diagonal Rd., Elwood, 815-423-9958).

Alton 62003 (600 Pearl St., 314-260-8720).

Camp Butler 62707 (5063 Camp Butler Rd., Springfield, 217-492-4070).

Danville 61832 (1900 East Main St., 217-554-4550).

Fort Sheridan 60037 (Vatner Road, 224-610-7296).

Mound City 62963 (Junction Highways 37 & 51, 314-260-8720).

Quincy 62301 (36th and Maine St., 309-782-2094).

Rock Island 61299-7090 (Rock Island Arsenal, Bldg. 118, 309-782-2094).

INDlANA

VA Medical Centers

Fort Wayne 46805 (2121 Lake Avenue, 260-426-5431 or 800-360-8387).

Indianapolis 46202 (1481 West 10th Street, 317-554-0000).

Marion 46953-4589 (1700 East 38th Street, 765-674-3321 or 800-360-8387).

Clinics

Bloomington 47403 (1332 West Arch Haven Avenue, 812-349-4406).

Bloomington 47403 (2100 South Liberty Drive, Suite B, 812-336-5723).

Crown Point 46307 (9301 Madison Street, 219-662-5000).

Edinburgh 46124 (3791 10th Street, Bldg. 1010, 812-348-0300).

Evansville 47715 (6211 East Waterford Blvd., 812-465-6202).

Goshen 46526 (2606 Peddlers Village Road, Suite 210, 574-534-6108 or 877-292-0968).

Greendale 47025 (1600 Flossie Drive, 812-539-2313).

Indianapolis 46222 (2669 Cold Spring Road, 317-988-1866).

Indianapolis 46254 (3850 Shore Drive, Suite 203, 317-988-1772).

Lafayette 47906 (3851 North River Road, 317-988-1772).

Martinsville 46151 (2200 John R. Wooden Drive, 317-988-0120).

Mishawaka 46545 (1540 Trinity Place, 574-272-9000).

Muncie 47303 (2600 West White River Blvd., 765-254-5602).

New Albany 47150 (4347 Security Parkway, 502-287-4100).

Peru 46970 (750 North Broadway, 765-472-8907).

Richmond 47374 (1010 North J Street, 765-973-6915).

Scottsburg 47170 (1467 Scott Valley Drive, 877-690-1938).

Shelbyville 46716 (30 West Rampart Street, 317-398-2812).

Terre Haute 47802 (110 West Honey Creek Pkwy., 812-232-8325).

Terre Haute 57802 (380 Honey Creek Drive, 812-478-1825).

Vincennes 47591 (1813 Willow Street, Suite 6A, 812-882-0894).

Regional Office

Indianapolis 46204 (575 N Pennsylvania St., statewide 1-800-827-1000).

Vet Centers

Evansville 47711 (311 N Weinbach Ave., 812-473-5993 or 473-6084).

Fort Wayne 46802 (528 West Berry St., 260-460-1456).

Merrillville 46410 (6505 Broadway Ave., 219-736-5633).

Indianapolis 46208 (3833 N Meridian St., Suite 120, 317-927-6440).

National Cemeteries

Crown Hill 46208 (700 W 38th St., Indianapolis, 765-674-0284).

Marion 46952 (1700 E 38th St., 765-674-0284).

New Albany 47150 (1943 Ekin Ave., 502-893-3852).

IOWA

VA Medical Centers

Des Moines 50310-5774 (3600 30th Street, 515-699-5999).

Iowa City 52246-2208 (601 Highway 6 West, 319-338-0581).

Clinics

Carroll 51401 (311 South Clark Street, Suite 275, 712-794-6780).

Cedar Rapids 52404 (2230 Wiley Blvd. SW, 319-369-4340).

Coralville 52441 (520 10th Avenue, Suite 100, 319-358-2406).

Davenport 52804 (2826 West Locust Street, Suite A, 563-332-8528).

Decorah 52101 (915 Short Street, 563-387-5840).

Dubuque 52001 (2600 Dodge Street, Suite A1, 563-588-5520).

Fort Dodge 50501 (2419 2nd Avenue N, 515-576-2235).

Knoxville 50138 (1607 North Lincoln Street, 641-828-5019 or 800-816-8878).

Marshalltown 50158 (101 Iowa Avenue W, 641-754-6700 or 877-424-4404).

Mason City 50401 (520 South Pierce, Suite 150, 641-494-5000).

Ottumwa 52531 (1009 East Pennsylvania Avenue, 641-683-4300).

Shenandoah 51601 (512 South Fremont, 712-246-0092).

Spirit Lake 51360 (1850 Royal Avenue, 712-336-6400).

Waterloo 50701 (945 Tower Park Drive, 319-235-1230).

Regional Office

Des Moines 50309 (210 Walnut St., Rm. 1063, statewide 1-800-827-1000).

Vet Centers

Cedar Rapids 52402 (1642 42nd St. NE, 319-378-0016).

Des Moines 50310 (2600 Martin Luther King Jr. Pkwy., 515-284-4929).

Sioux City 51104 (1551 Indian Hills Dr., Suite 214, 712-255-3808).

National Cemetery

Keokuk 52632 (1701 J St., 309-782-2094).

KANSAS

VA Medical Centers

Leavenworth 66048-5055 (4101 South 4th Street, 913-682-2000).

Topeka 66622 (2200 SW Gage Boulevard, 785-350-3111).

Wichita 67218 (5500 East Kellogg, 316-685-2221).

Clinics

Chanute 66720 (629 South Plummer, Suite D, 620-431-4000).

Dodge City 67843 (2201 Summerlon Circle, 888-878-6881).

Ft. Scott 66701 (902 Horton Street, 620-223-8655).

Garnett 66032 (421 South Maple, 800-574-8387).

Hays 67601 (207-B East Seventh, 888-878-6881).

Hutchinson 67502 (1625 East 30th Avenue, 888-878-6811).

Junction City 66441 (1169 Southwind Dr., 800-574-8387).

Kansas City 66102 (21 North 12th Street, Bethany Medical Bldg., Suite 110, 800-952-8387).

Lawrence 66049 (2200 Harvard Road, 800-574-8387)

Liberal 67901 (2 Rock Island Road, Suite 200, 620-626-5574).

Overland Park 66212 (10500 Mastin Street, 816-922-2750).

Paola 66071 (510 South Hospital Drive, 816-922-2160).

Parsons 67357 (1907 Harding Drive, 888-878-6881).

Salina 67401 (1410 East Iron, Suite 1, 888-878-6881).

Shawnee 66226 (6830 Anderson Drive, 816-922-2750).

Regional Office

Wichita 67218 (Robert J. Dole Regional Office, 5500 E Kellogg Ave., 1-800-827-1000).

Vet Center

Wichita 67211 (413 S Pattie, 316-265-3260).

National Cemeteries

Fort Leavenworth 66027 (395 Biddle Blvd., 913-758-4105).

Fort Scott 66701 (900 East National Ave., 620-223-2840).

Leavenworth 66048 (4101 South 4th St., Traffic Way, 913-758-4105).

KENTUCKY

VA Medical Centers

Ft. Thomas 41075 (1000 South Fort Thomas Avenue, 859-572-6202).

Lexington-Cooper Div. 40502 (1101 Veterans Drive, 859-281-4900 or 859-233-4511).

Lexington-Leestown Div. 40511 (2253 Leestown Road, 859-233-4511 or 859-281-4900).

Louisville 40206 (800 Zorn Avenue, 502-287-4000).

Clinics

Bellevue 41073 (103 Landmark Drive, Suite 300, 859-392-3840).

Berea 40403 (209 Pauline Drive, 859-986-1259).

Bowling Green 42101 (600 U.S. 31 West Bypass, Suite 12, 270-782-0120).

Carrollton 41008 (1911 U.S. Highway 227, 502-287-6060).

Clarkson 42726 (619 West Main Street, 866-653-8232).

Florence 41042 (7310 Turfway Road, Suite 510, 859-282-4480).

Ft. Knox 40121 (851 Ireland Loop, 502-624-9396).

Hanson 42413 (926 Veterans Drive, 270-322-3583).

Hazard 41701 (210 Black Gold Blvd., 606-436-2350).

Hopkinsville 42240 (1002 South Virginia Street, 270-885-2106).

Louisville-Newburg 40218 (3430 Newburg Road, 502-287-6223).

Louisville-Shively 40216 (3934 North Dixie Highway, Suite 210, 502-287-6000).

Louisville-Stonybrook 40299 (9208 Taylorsville Road, 502-287-6986).

Mayfield 42066 (1253 Paris Road, Suite A, 270-247-2455).

Morehead 40351 (333 Beacon Hill Road, 606-784-3004).

Owensboro 42303 (3400 New Hartford Road, 270-684-5034).

Paducah 42001 (2620 Perkins Creek Drive, 270-444-8465).

Prestonsburg 41653 (5230 KY Rt. 321, 606-886-1970).

Somerset 42533 (300 Medpark Drive, 606-676-0786).

Regional Office

Louisville 40202 (321 W Main St., Ste. 390, statewide 1-800-827-1000).

Vet Centers

Lexington 40507 (301 E Vine St., Suite C, 859-253-0717).

Louisville 40208 (1347 S 3rd St., 502-634-1916).

National Cemeteries

Camp Nelson 40356 (6980 Danville Rd., Nicholasville, 859-885-5727).

Cave Hill 40204 (701 Baxter Ave., Louisville, 502-893-3852).

Danville 40442 (277 N First St., 859-885-5727).

Lebanon 40033 (20 Highway 208, 502-893-3852).

Lexington 40508 (833 W Main St., 859-885-5727).

Mill Springs 42544 (9044 West Highway 80, Nancy, 859-885-5727).

Zachary Taylor 40207 (4701 Brownsboro Rd., Louisville, 502-893-3852).

LOUISIANA

VA Medical Centers

Alexandria (2495 Shreveport Hwy. 71 N, Pineville, LA 71360, 318-473-0010).

New Orleans (2400 Canal Street, New Orleans, LA 70119, 504-507-2000 or 800-935-8387).

Shreveport, LA (510 E Stoner Ave., Shreveport, LA 71101, 318-221-8411).

Clinics

Baton Rouge (North) (7968 Essen Park Ave., Baton Rouge, LA 70809, 225-761-3507 or 800-935-8387).

Baton Rouge (South) (7850 Anselmo Lane, Baton Rouge, LA 70810, 225-761-3507 or 800-935-8387).

Bogalusa (521 Ontario Avenue Bogalusa, LA 70427, 985-735-9029)

Fort Polk (3353 University Parkway Leesville, LA 71446, 337-392-3800)

Franklin (603 Haifleigh Street Franklin, LA 70538, 337-828-9092)

Hammond (1131 South Morrison Boulevard., Hammond, LA 70403, 985-902-5100).

Houma (6433 West Park Avenue, Houma, LA 70364, 985-851-0188 or 800-935-8387).

Jennings (1907 Johnson St., Jennings, LA 70546, 337-824-1000).

Knight Street (3000 Knight Street, Building 5, Shreveport, LA 71105, 318-221-8411).

Lafayette (Campus A) (3149 Ambassador Caffery Parkway, Lafayette, LA 70501, 337-706-3415).

Lafayette (Campus B) (309 St. Julien Avenue, Lafayette, LA 70506, 337-706-3415).

Lake Charles, 3601 Gerstner Memorial Drive, Hwy. 14, Lake Charles, LA 70607, 337-475-9500).

Monroe (1691 Bienville Dr., Monroe, LA 71203, 318-343-6100 or 800-832-3525).

Natchitoches (740 Keyser Avenue, Natchitoches, LA 71457, 318-357-3300).

Slidell (60491 Doss Dr., Ste. B, Slidell, LA 70460, 985-690-2626).

St. John (4004 West Airline Hwy., Reserve, LA 70084, 504-565-4705).

Regional Office

Gretna 70056 (671A Whitney Ave., statewide 1-800-827-1000).

Vet Centers

Baton Rouge 70809 (5207 Essen Lane, Suite 2, 225-757-0045).

Kenner 70062 (2200 Veterans Blvd., Suite 114, 504-464-4743).

Shreveport 71104 (2800 Youree Dr., Bldg. 1, Suite 1, 318-861-1776).

National Cemeteries

Alexandria 71360 (209 E Shamrock St., Pineville, 601-445-4981).

Baton Rouge 70806 (220 N 19th St., 225-654-3767).

Louisiana 70791 (303 W Mount Pleasant Road, 225-654-1988).

Port Hudson 70791 (20978 Port Hickey Rd., Zachary, 225-654-3767).

MAINE

VA Medical Center

Togus (1 VA Center, Augusta, ME 04330, 207-623-8411).

Clinics

Bangor (35 State Hospital Dr., Bangor, ME 04401, 207-561-3600).

Calais (50 Union St., Calais, ME 04619, 207-904-3700).

Caribou (163 Van Buren Drive, Suite 6, Caribou, ME 04736, 207-493-3800).

Lewiston/Auburn (15 Challenger Dr., Lewiston, ME 04240, 207-330-2700 or 877-421-8263)

Lincoln (99 River Road, Lincoln, ME 04457, 207-623-8411 or 877-421-8263).

Portland (144 Fore St., Portland, ME 04101, 207-623-8411 or 877-421-8263)

Rumford (431 Franklin St., Rumford, ME 04726, 207-369-3200).

Saco (655 Main St., Saco, ME 04072, 207-623-8411 or 877-421-8263).

Vet Centers

Bangor 04401 (368 Harlow St., 207-947-3391).

Caribou 04619 (456 York St., York Street Complex, 207-496-3900).

Lewiston 04240 (Pkwy. Complex, 29 Westminster St., 207-783-0068).

Portland 04103 (475 Stevens Ave., 207-780-3584).

Springvale 04083 (628 Main St., 207-490-1513).

National Cemetery

Togus 04330 (1 VA Center, 508-563-7113).

MARYLAND

VA Medical Centers

Baltimore (10 North Greene St., Baltimore, MD 21201, 410-605-7000).

Loch Raven (3900 Loch Raven Boulevard, Baltimore, MD 21218, 410-605-7000).

Perry Point (59 Avenue D, Building 59, Perry Point, MD 21902, 410-642-2411 or 800 949-1003).

Clinics

Baltimore (Annex) (209 West Fayette Street, Baltimore, MD 21201, 410-605-7000).

Cambridge (830 Chesapeake Dr., Cambridge, MD 21613, 410-228-6243 or 877-864-9611).

Cumberland (200 Glenn St., Cumberland, MD 21502, 304-263-0811 or 800-817-3807).

East Baltimore (5235 King Avenue, Suite 200, Rosedale, MD 21237, 443-730-2020).

Fort Detrick (1433 Porter St., Frederick, MD 21702, 304-263-0811 or 800-817-3807).

Fort Meade (2479 5th St., Fort Meade, MD 20755, 410-305-5300).

Glen Burnie 21061 (808 Landmark Dr., Suite 128, Glen Burnie, MD 21061, 410-590-4140).

Hagerstown (Hub Plaza Bldg., 1101 Opal Ct., Hagerstown, MD 21742, 301-665-1462).

Loch Raven (3901 The Alameda, Baltimore, MD 21218, 410-605-7651).

Montgomery County (15810 Gaither Dr., Gaithersburg, MD 21218, 410-605-7650).

Pocomoke (1701 Market St., Unit 211, Pocomoke, MD 21851, 410-957-6718 or 866-441-0287).

Southern Maryland (29431 Charlotte Hall Rd., Charlotte Hall, MD 20622, 301-884-7102).

Southern PG County (5801 Allentown Rd., Camp Springs, MD 20746, 301-423-3700).

Regional Office

Baltimore 21201 (31 Hopkins Plaza Federal Bldg., 1-800-827-1000).

Vet Centers

Baltimore 21207 (6666 Security Blvd., Suite 2, 410-277-3600).

Cambridge 21613 (5510 West Shore Dr., 410-228-6305 ext. 4123).

Elkton 21921 (103 Chesapeake Blvd., Suite A, 410-392-4485).

Silver Spring 20910 (1015 Spring St., Suite 101, 301-589-1073).

National Cemeteries

Annapolis 21401 (800 West St., 410-644-9696).

Baltimore 21228 (5501 Frederick Ave., 410-644-9696).

Loudon Park 21228 (3445 Frederick Ave., Baltimore, 410-644-9696).

MASSACHUSETTS

VA Medical Centers

Bedford (200 Springs Rd., Bedford, MA 01730, 781-687-2000).

Brockton (940 Belmont St., Brockton, MA 02301, 508-583-4500).

Jamaica Plain (150 South Huntington Ave., Jamaica Plain, MA 02130, 617-232-9500).

Leeds (421 N Main St., Leeds, MA, 413-584-4040).

West Roxbury (1400 VFW Parkway, West Roxbury, MA 02132, 617-323-7700).

Clinics

Causeway (251 Causeway St., Boston, MA 02114, 800-865-3384)

Fitchburg (881 Main Street, Fitchburg, MA 01420, 800-893-1522).

Framingham (61 Lincoln St., Suite 112, Framingham, MA 01702, 508-628-0205).

Gloucester (199 Main Street, Gloucester, MA 01930, 800-838-6331).

Greenfield (143 Munson St., Greenville, MA 01301, 413-773-8428).

Haverhill (108 Merrimack St., Haverhill, MA 01830, 978-372-5207).

Hyannis (233 Stevens St., Hyannis, MA 02531, 508-771-3190).

Lowell (130 Marshall Rd., Lowell, MA 01852, 800-865-3384).

Lynn (225 Boston Rd., Suite 107, Lynn, MA 01904, 800-838-6331).

New Bedford (175 Elm St., New Bedford, MA 02740, 508-994-0217).

Pittsfield (73 Eagle St., Pittsfield, MA 01201, 413-499-2672).

Quincy (110 West Squantum Street, Quincy, MA 02169, 800-865-3384).

Springfield (25 Bond St., Springfield, MA 01104, 413-731-6000).

Worcester (605 Lincoln St., Worcester, MA 01605, 508-856-0104).

Regional Office

Boston 02203-0393 (JFK Federal Building, Room 1265, Government Center, statewide 1-800-827-1000) (Towns of Fall River & New Bedford, counties of Barnstable, Dukes, Nantucket, Bristol, part of Plymouth served by Providence, R.I., VA Regional Office).

Vet Centers

Boston 02215 (665 Beacon St., 617-424-0665).

Brockton 02401 (1041-L Pearl St., 508-580-2730).

Hyannis 02601 (474 West Main St., (508-778-0124).

Lowell 01852 (73 East Merrimack St., 978-453-1151).

New Bedford 02740 (468 North St., 508-999-6920).

Springfield 01103 (1985 Main St., Northgate Plaza, 413-737-5167).

Worcester 01605 (691 Grafton St., 508-753-7902).

National Cemetery

Massachusetts 02532 (Connery Ave., Bourne, 508-563-7113).

MICHIGAN

VA Medical Centers

Ann Arbor 48105 (2215 Fuller Rd., 734-769-7100 or 800-361-8387).

Battle Creek 49015 (5500 Armstrong Rd., 269-966-5600 or 888-214-1247).

Detroit (4646 John R. St., Detroit, MI 48201, 313-576-1000 or 800-511-8056).

Iron Mountain 49801 (325 East H St., Iron Mountain, MI 49801, 906-774-3300).

Saginaw (1500 Weiss St., Saginaw, MI 48602, 989-497-2530 or 800-406-5143).

Clinics

Bad Axe (1142 S Van Dyke Rd., Suite 100, Bad Axe, MI 48413)

Benton Harbor (115 Main St., Benton Harbor, MI 49022, 269-934-9123).

Cadillac (1909 North Mitchell St., Cadillac, MI 49601, 231-775-4401).

Cheboygan County (14540 Mackinaw Hwy., Mackinaw City, MI 49701, 231-436-5176).

Clare (11775 N Isabella Rd., Clare, MI 48617, 989-386-8113).

Clement C. Van Wagoner (180 North State Avenue, Alpena, MI 49707, 989-356-8720).

Flint (2360 South Linden Road, Flint, MI 48532, 810-720-2913).

Gaylord (806 S Otsego, Gaylord, MI 49735, 989-732-7525).

Grayling (1680 Hartwick Pines Road, Grayling, MI 49738, 989-344-2002).

Green Road (2530 Green Road, Ann Arbor, MI 48105, 734-769-7100).

Hancock (787 Market St., Hancock, MI 49930, 906-482-7762).

Ironwood (629 W Cloverland Dr., Suite 1, Ironwood, MI 49338, 906-932-0032).

Jackson (4328 Page Avenue, Michigan Center, MI 49254, 517-764-3609).

Lansing (2025 S Washington Ave., Lansing, MI 48910, 517-267-3925).

Manistique (813 East Lakeshore Drive, Manistique, MI 49854, 906-341-3420).

Marquette (1414 W Fair Ave., Suite 285, Marquette, MI 49855, 906-226-4618).

Menominee (1101 10th Ave., Suite 101, Menominee, MI 49858, 906-863-1286).

Muskegon (5000 Hakes Dr., Muskegon, MI 49441, 231-798-4445).

Oscoda (5671 Skeel Ave., Suite 4, Oscoda, MI 48750, 989-747-0026).

Packard Road (3800 Packard Road, Ann Arbor, MI 48108, 734-222-7600 or 734-845-3414).

Pontiac (44200 Woodward Avenue, Suite 108, Pontiac, MI 48340, 248-409-0585).

Saginaw (Annex) (4241 Barnard Road, Saginaw, MI 48603, 800-406-5143).

Sault Ste. Marie (509 Osborn Blvd., Suite 306, Sault Ste. Marie, MI 49783, 906-253-9383).

Traverse City (701 U.S 31 South, Traverse City, MI 49685, 231-932-9720 or 800-406-5143).

Wyoming (5838 Metro Way, Wyoming, MI 49519, 616-249-5300).

Yale (7470 Brockway Road, Yale, MI 48097, 810-387-3211).

Regional Office

Detroit 48226 (Patrick V. McNamara Federal Bldg., 477 Michigan Ave., Rm. 1400, 1-800-827-1000).

Vet Centers

Dearborn 48124-3438 (2881 Monroe St., Suite 100, 313-277-1428).

Detroit 48201 (4161 Cass Ave., 313-831-6509).

Escanaba 49829 (Willow Creek Professional Bldg., 3500 Ludington St.).

Grand Rapids 49507 (1940 Eastern SE, 616-243-0385).

Saginaw 48603 (4048 Bay Rd., 989-321-4650).

National Cemeteries

Fort Custer 49012 (15501 Dickman Rd., Augusta, 269-731-4164).

Great Lakes 48442 (4200 Belford Rd., Holly, 866-348-8603).

MINNESOTA

VA Medical Centers

Minneapolis (One Veterans Dr., Minneapolis, MN 55417, 612-725-2000 or 866-414-5058).

St. Cloud (4801 Veterans Dr., St. Cloud, MN 56303, 320-252-1670 or 800-247-1739).

Clinics

Albert Lea (1665 West Main St., Albert Lea, MN 56007, 507-377-6051).

Alexandria (515 22nd Avenue East, Alexandria, MN 56308, 320-759-2640).

Bemidji (705 5th St., Bermidji, MN 56601, 218-755-6360).

Brainerd (722 NW 7th Street, Brainerd, MN 56401, 218-855-1115).

Ely (720 Miners Drive East, Ely, MN 55731, 218-365-0001)

Fergus Falls (1839 N Park St., Fergus Falls, MN 56537, 218-739-1400).

Hibbing (990 West 41st Street, Suite 5, Hibbing, MN 55746, 218-263-1400).

Lyle C. Pearson (1961 Premier Dr., Suite 330, Mankato, MN 56001, 507-387-2939).

Maplewood (1725 Legacy Parkway, Suite 100, Maplewood, MN 55109, 651-225-5420).

Montevideo (1025 North 13th St., Montevideo, MN 56265, 320-269-2222).

Northwest Metro (7545 Veterans Drive, Ramsey, MN 55303, 612-467-1100).

Rochester (3551 Commercial Drive South West, Suite 400, Rochester, MN 55902, 507-252-0885).

Shakopee (1111 Shakopee Town Square, Shakopee, MN 55379, 952-445-4070).

South Central (1212 Heckman Court, St. James, MN 56081, 507-375-9670).

Regional Office

St. Paul 55111 (Bishop Henry Whipple Federal Bldg., 1 Federal Dr., 1-800-827-1000) (Counties of Becker, Beltrami, Clay, Clearwater, Kittson, Lake of the Woods, Mahnomen, Marshall, Norman, Otter Tail, Pennington, Polk, Red Lake, Roseau, Wilkin served by Fargo, N.D., VA Regional Office)—Fiduciary Duties for Illinois, Iowa, Kansas, Minnesota, Missouri, Nebraska, North Dakota, South Dakota, Wisconsin (1-800-827-0611).

Vet Centers

Duluth 55802 (405 E Superior St., 218-722-8654)

St. Paul 55114 (2480 University Ave., 651-644-4022).

National Cemetery

Fort Snelling 55450-1199 (7601 34th Ave. So., Minneapolis, 612-726-1127).

MISSISSIPPI

Medical Centers

Biloxi (400 Veterans Ave., Biloxi, MS 39531, 228-523-5000).

Jackson (1500 E Woodrow Wilson Dr., Jackson, MS 39216, 601-362-4471).

Clinics

Columbus (824 Alabama St., Columbus, MS 39702, 662-244-0391).

Greenville (1502 S Colorado St., Greenville, MS 38703, 662-332-9872).

Hattiesburg (5003 Hardy Street, Tower B, Suite 402, Hattiesburg, MS 39401, 601-296-3530).

Holly Springs (1700 Crescent Meadow Dr., Holly Springs, MS 38635, 662-252-2552).

Kosciusko (405 West Adams, Kosciusko, MS 39090, 662-289-2880).

McComb (1308 Harrison Ave., McComb, MS 39648, 601-253-0965).

Meridian (2103 13th St., Meridian, MS 39301, 601-482-7154).

Natchez (105 Northgate Drive, Suite 2, Natchez, MS 39120, 601-442-7141).

Tupelo (1114 Commonwealth Blvd., Tupelo, MS 38804. 662-840-6366).

Regional Office

Jackson 39216 (1600 E Woodrow Wilson Ave., statewide 1-800-827-1000).

Vet Centers

Biloxi 39531 (288 Veterans Ave., 228-388-9938).

Jackson 39216 (1755 Lelia Dr., Suite 104, 601-965-5727).

National Cemeteries

Biloxi 39535-4968 (P.O. Box 4968, 400 Veterans Ave., 228-388-6668).

Corinth 38834 (1551 Horton St., 901-386-8311).

Natchez 39120 (41 Cemetery Rd., 601-445-4981).

MISSOURI

VA Medical Centers

Columbia 65201-5297 (800 Hospital Dr., 573-814-6000 or 800-349-8262).

Kansas City 64128 (4801 Linwood Blvd., 816-861-4700 or 800-525-1483).

Poplar Bluff 63901 (1500 N Westwood Blvd., 573-686-4151).

Saint Louis-Jefferson Barracks 63125-4101 (1 Jefferson Barracks Dr., 314-652-4100 or 800-228-5459).

Saint Louis-John Cochran Div. 63106 (915 N Grand Blvd., 314-652-4100 or 800-228-5459).

Outpatient Clinic

Platte City 64079 (2303 Higgins Suite F, 913-758-6980)

Clinics

Belton 64012 (209 Cunningham Industrial Parkway, 816-922-2161).

Branson VA Clinic 65616 (5571 North Gretna Road, Phone: 417-243-2300)

Camdenton 65065 (Lake of the Ozarks Clinic, 940 Executive Drive, 573-302-7890).

Cameron 64429 (1111 Euclid Dr., 816-922-2530, ext. 54251).

Cape Girardeau 63703 (3051 William St., 573-339-0909).

Farmington 63640 (1580 W Columbia St., 573-760-1365).

Ft. Leonard Wood 65583 (700 GW Lane St., 573-774-2285).

Gene Taylor Veterans' Outpatient Clinic 65807 (1850 West Republic Road, Phone: 844-501-8387 ext. 64500).

Honor Annex 64133 (4251 Northern Avenue, 816-861-4700).

Hope Recovery Center VA St. Louis Health Care System 63103 (515 North Jefferson Avenue, 314-652-4100, X55500 or 800-228-5459, X 55500).

Joplin VA Clinic 64804 (3015 South Connecticut Avenue Phone: 800-691-8387).

Kirksville 63501 (506 Rosewood Dr., 660-627-8387).

Marshfield VA Clinic 65706 (1240 Banning Street, 417-468-1963).

Mexico 65265 (3460 South Clark St., 573-581-9630).

Mobile Medical Unit 64128 (4801 Linwood Blvd., 816-861-4700, X52977 or 800-525-1483, X52977).

Nevada 64772 (322 South Prewitt, 816-861-4700, X54235).

Salem 65560 (Hwy. 72 North, 573-778-9750 or 1-888-557-8262).

Sedalia VA Clinic 65301 (3320 West 10th Street, 660-826-3800).

Sikeston CBOC 63801 (903 South Kings Highway, 573-472-2139).

St. Charles 63368 (844 Waterbury Falls Dr., 314-286-6988).

St. James 65559-1999 (Missouri Veterans Home, 207 Matlock Dr., 573 265-0448).

St. Joseph 64503 (3302 S Belt Highway, Suite P, 1-800-952-8387, ext 56925).

St. Louis 63033 (6854 Parker Road, 314-286-6988).

Warrensburg 64093 (702 E Young Ave., 816 922-2530 ext. 54281).

West Plains 65775 (1801 E State Route K, 417-257-2454).

Regional Office

St. Louis 63103 (400 South 18th St., statewide 1-800-827-1000).

Benefits Office

Kansas City 64128 (4801 Linwood Blvd., 816-922-2660 or 1-800-525-1483, x 52660).

Vet Centers

Kansas City 64111 (301 E Armour Rd., 816-753-1866).

St. Louis 63103 (2345 Pine St., 314-231-1260).

National Cemeteries

Jefferson Barracks 63125 (2900 Sheridan Rd., St. Louis, 314-260-8720).

Jefferson City 65101 (1024 E McCarty St., 314-260-8720).

Springfield 65804 (1702 E Seminole St., 417-881-9499).

MONTANA

VA Medical Centers

Fort Harrison 59636-1500 (3687 Veterans Drive, P.O. Box 1500, 406-442-6410).

Clinics

Anaconda 59711 (118 East 7th St., 406-496-3000).

Billings 59102 (1766 Majestic Lane, 406-373-3500).

Cut Bank 59427 (8 Second Avenue, 406-873-9047).

Bozeman 59715 (300 N. Wilson, Suite 703G, 406-582-5300).

Glasgow 59230 (630 2nd Ave., 406-228-4101).

Glendive 59330 (2000 Montana Ave., 406-377-4755).

Great Falls 59405 (1417 9th St. South, Suite 200, 406-791-3200 877-468-8387, opt 3).

Hamilton VA Clinic 59840 (299 Fairgrounds, Suite A, 406-363-3352).

Kalispell 59901(31 Three Mile Dr., Ste. 102, 406-758-2700).

Lewistown VA Clinic 59457 (629 NE Main St., Suite, 406-535-4790).

Merril Lundman VA Clinic (Havre, MT 59501) (130 13th Street, Suite 1, 406-265-4304).

Miles City 59301 (Clinic/Nursing Home, 210 S Winchester, 406-874-5600).

Missoula 59808 (2687 Palmer St., Suite C, 406-493-3700).

Plentywood VA Clinic 59254 (440 West Laurel Ave., 406-765-3719)

Regional Office

Fort Harrison 59636 (3633 Veterans Dr., P.O. Box 1500, 1-800-827-1000).

Vet Centers

Billings 59102 (1234 Ave., C, 406-657-6071).

Missoula 59802 (500 N Higgins Ave., 406-721-4918).

National Cemetery

Yellowstone 59044 (55 Buffalo Trail Road, 406-647-2746).

NEBRASKA

VA Medical Centers

Grand Island 68803-2196 (2201 No. Broadwell Ave., 308-382-3660/866-580-1810).

Lincoln 68510 (600 South 70th St., 402-489-3802/866-851-6052).

Omaha 68105 (4101 Woolworth Ave., 402-346-8800/800-451-5796).

Clinics

Bellevue VA Clinic 68005 (2206 Longo Drive, Suite 102, 402-591-4500).

Holdrege VA Clinic 68949 (1118 Burlington St., 308-995-3760).

Norfolk 68701 (710 S 13th, Suite 1200, 402-370-4570).

North Platte 69101 (600 East Francis, Suite 3, 308-532-6906).

Rushville/Gordon 69343 (300 E 8th St., 308-282-1442).

Scottsbluff 69361 (601 S 5th Ave., 308-225-5330).

Sidney 69162 (1116 10th Ave., 308-254-5575).

Regional Office

Lincoln 68516 (5631 S 48th St., statewide 1-800-827-1000).

Vet Centers

Lincoln 68508 (920 L St., 402-476-9736).

Omaha 68131 (2428 Cuming St., 402-346-6735).

National Cemetery

Fort McPherson 69151-1031 (12004 S Spur 56A, Maxwell, 888-737-2800).

Omaha 68138 (14253 Schram Road, 402-253-3949).

NEVADA

VA Medical Centers

Las Vegas 89086 (6900 North Pecos Road N, 702-791-9024).

Reno 89502 (1000 Locust Street, 775-786-7200 or 888-838-6256).

Clinics

Elko VA Clinic 89801 (2719 Argent Ave., 775-738-0188).

Northwest Primary Care Clinic 89103 (3968 N Rancho Dr., 702-791-9020).

Southeast Primary Care Clinic 89015 (1020 S Boulder, 702-791-9030).

Southwest Primary Care Clinic 89113 (7235 South Buffalo Drive, 702-791-9040).

Community Based Outpatient Clinic

Lahontan Valley VA Clinic 89406 (1020 New River Parkway, Suite 304, 775-428-6161).

Pahrump Community Based Outpatient Clinic 89048 (220 South Lola Lane, 775-727-7535).

VA Carson Valley Outpatient Clinic 89410 (1330 Waterloo Lane, Suite 101, 775-782-5265).

NEW HAMPSHIRE

VA Medical Center

Manchester 03104 (718 Smyth Road, 603-624-4366 or 800-892-8384).

Conway 03818 (71 Hobs St. Third Floor, 800-892-8384, ext. 3199).

Keene Outpatient Clinic 03431 (640 Marlboro Street, Route 101, 603-358-4900).

Littleton 03561 (Littleton Regional Hospital, 264 Cottage St., 603-575-6700).

Portsmouth 03803 (Pease Intl., Tradeport 302 Newmarket St., 603-624-4366, x3199).

Somersworth 03878 (200 Route 108, 603-624-4366, Ext. 3199).

Tilton 03276 (630 West Main St. Suite 400., 603-624-4366, x3199).

Regional Office

Manchester 03101 (Norris Cotton Federal Bldg., 275 Chestnut St., 1-800-827-1000).

Vet Center

Manchester 03104 (103 Liberty St., 603-668-7060/61).

NEW JERSEY

VA Medical Centers

East Orange 07018 (385 Tremont Avenue, 973-676-1000).

Lyons 07939 (151 Knollcroft Road, 908-647-0180).

Clinics

Brick 08724 (970 Rt. 70, 732-206-8900).

Elizabeth 07206 (654 East Jersey Street, Suite 2A, 908-994-0120).

Hackensack 07601 (385 Prospect Avenue, 201-342-4536).

Jersey City 07302 (115 Christopher Columbus Dr., 201-435-3055/3305).

Morristown 07960 (540 West Hanover Ave., 973-539-9791/9794).

Paterson 07503 (11 Getty Ave., St. Joseph's Hospital & Med. Center, 973-247-1666).

Piscataway CBOC 08854 (14 Wills Way, Building 5, 732-981-8193).

Sussex Outpatient Clinic 07860 (222 High Street, 973-756-1504).

Tinton Falls Community Based Outpatient Clinic 07701 (55 Gilbert St., 732-842-4751).

Regional Office

Newark 07102 (20 Washington Pl., statewide 1-800-827-1000) (Philadelphia, PA Regional Office serves counties of Atlantic, Burlington, Camden, Cape May, Cumberland, Gloucester, Salem).

Vet Centers

Bloomfield 07003 (2 Broad St., Suite 703, 973-748-0980).

Jersey City 07302 (115 Christopher Columbus Dr., Suite 200, 201-748-4467).

Ewing 08618 (934 Parkway Ave., 2nd Fl., 609-882-5744).

Ventnor 08406 (6601 Ventnor Ave., Suite 105, 609-487-8387).

National Cemeteries

Beverly 08010 (916 Bridgeboro Rd., 609-880-0827).

Finn's Point 08079 (Box 542, R.F.D. 3, Fort Mott Rd., Salem, 609-880-0827).

NEW MEXICO

VA Medical Center

Albuquerque 87108-5153 (1501 San Pedro Dr. SE, 505-265-1711 or 800-465-8262).

Clinics

Alamogordo 88310 (3199 North White Sands Blvd., Suite 10, 574-437-9195).

Artesia 88210-3716 (2410 West Main St., 505-746-3531).

Clovis 88101 (921 East Llano Estacado, 505-763-4335).

Espanola 87532 (105 South Coronado Ave., 505-367-4213).

Farmington 87402-8303 (3605 English Rd., 505-326-4383).

Gallup 87301 (2075 South NM Hwy. 602, 505-722-7234).

Hobbs 88340 (1601 N Turner (4th Floor), 505-391-0354).

Las Cruces 88012 (3401 Del Rey Blvd., 575-522-1241).

Las Vegas 87701 (624 University Ave., 505-425-1910).

Northwest Metro 87124 (1760 Grande Blvd. SE, 505-896-7200).

Raton 87440-2234 (1493 Whittier St., 575-445-2391).

Santa Fe 87507 (5152 Beckner Rd., 505-986-8645).

Silver City 88601 (2950 Leslie Rd., 505-538-2921).

Taos CCBOC 57571 (1353 Paseo Del Pueblo Sur, 575-751-0328).

Truth or Consequences 87901 (1960 North Date St., 575-894-7662).

Regional Office

Albuquerque 87102 (Dennis Chavez Federal Bldg., 500 Gold Ave. SW, statewide 1-800-827-1000).

Vet Centers

Albuquerque 87104 (1600 Mountain Rd. NW, 505-346-6562).

Farmington 87402 (4251 E Main, Suite C, 505-327-9684).

Las Cruces 88001 (230 S Water St., 575-523-9826).

Santa Fe 87505 (2209 Brothers Rd., Suite 110, 505-988-6562).

National Cemeteries

Fort Bayard 88036 (P.O. Box 189, 915-564-0201).

Santa Fe 87501 (501 N Guadalupe St., 505-988-6400 or toll-free 877-353-6295).

NEW YORK

VA Medical Centers

Albany 12208 (113 Holland Ave., 518-626-5000).

Batavia 14020 (222 Richmond Ave., 585-297-1000).

Bath 14810 (76 Veterans Ave., 607-664-4000).

Bronx 10468 (130 West Kingsbridge Rd., 718-584-9000).

Brooklyn 11209 (800 Poly Place, 718-836-6600).

Buffalo 14215 (3495 Bailey Ave., 716-834-9200 or 800-532-8387).

Canandaigua 14424 (400 Fort Hill Ave., 585-394-2000).

Wappinger Falls 12590 (41 Castle Point Road 845-831-2000).

Montrose 10548 (2094 Albany Post Rd., 914-737-4400).

New York 10010 (423 East 23rd Street, 212-686-7500).

Northport 11768 (79 Middleville Road, 631-261-4400).

Syracuse 13210 (800 Irving Ave., 315-425-4400).

Domiciliaries

Jamaica 11425 (St. Albans, 179-00 Linden Blvd. & 179 St., 718-526-1000).

Clinics

Auburn 13021 (47 E Genesee Street, 315-294-7300).

Bainbridge 13733 (109 North Main St., 607-967-8590).

Bay Shore 11706 (132 East Main Street, 631-754-7978).

Binghamton 13901 (203 Court Street, 607-772-9100).

Carmel 10512 (1875 Route 6, Sterling Bank, (2nd floor) 845-228-5291).

Catskill 12414 (Columbia Greene Medical Arts Building, Suite D305, 159, Jefferson Hgts., 518-626-5240).

Clifton Park 12065 (963 Route 146, 518-383-8506).

Dunkirk 14048 (1170 Central Avenue, 716-363-1235).

East Meadow 11554 (2201 Hempstead Turnpike Building Q, 631-754-7978).

Elmira 14901 (1316 College Avenue, 877-845-3247).

Fonda 12068 (2623 State Highway, 30A, 518-853-1247).

Freeville 13068 (1451 Dryden Road, 607-347-4101).

Glens Falls 12801 (101 Ridge Street., 518-798-6066).

Goshen 10924 (30 Hatfield Lane, Suite 204, 845-294-6927).

Jamestown 14701 (608 West 3rd Street 716-338-1521).

Kingston 12401 (324 Plaza Road., 845-331-8322).

Lackawanna 14218 (1234 Abbott Road., 716-821-7815).

Lockport 14094 (5725 S Transit Rd., 716-438-3890),

Massena 13662 (6100 St. Lawrence Centre, 315-705-6666).

Monticello 12701 (55 Sturgis Road, 845-791-4936).

New City 10956 (345 North Main Street, Upper Level, 845-634-8942).

New York 10027 (55 West 125th St., 646-273-8125).

Niagara Falls 14301-2300 (2201 Pine Avenue, 716-284-1702).

Olean 14760-2658 (465 North Union St., 716-373-7709).

Oswego 13126 (437 State Route 104E 315-207-0209).

Patchogue 11772 (4 Phyllis Drive, 631-754-7978).

Pine Plains 12567 (2881 Church St., Rt. 199, 518-398-9240).

Plattsburgh 12901 (80 Sharron Ave., 518-561-6247).

Port Jervis 12771 (150 Pike St., 845-856-5396).

Poughkeepsie 12603 (Freedom Executive Park, Rt. 55, 488 Freedom Plains Rd., Suite 120, 845-452-5151).

Riverhead 11901 (300 Center Drive 631-754-7978).

Rochester 14623 (Monroe County VA Clinic, 260 Calkins Road, 585-463-2600).

Rochester 14620 (465 Westfall Road, 585-463-2600).

Rome 13441 (125 Brookley Road, Building 510, 315-334-7100).

Saranac Lake 12983 (33 Depot Street, 518-626-5237).

Schenectady 12308 (1346 Gerling Street, Sheridan Plaza, 518-346-3334).

Springville 14141 (15 Commerce Drive, 716-592-2409).

Staten Island 10314 (1150 South Ave., 3rd Floor, Suite 301, 718-836-6600).

Sunnyside 11104 (47-01 Queens Blvd., 3rd Floor, Suite 301, 718-741-4800).

Troy 12180 (295 River St., 518-274-7707).

ValleyStream 11580 (99 South Central Avenue, 631-754-7978).

Watertown 13601 (19472 U.S. Route 11, 315-782-0067).

Watertown 13601 (144 Eastern Blvd., 315-221-7026).

Wellsville 14895 (3458 Riverside Dr., Route 19, 607-664-4660).

Westport 12993 (7426 NYS Route 9N, 518-626-5236).

White Plains 10601 (23 South Broadway, 914-421-1951).

Yonkers 10701 (124 New Main St., 914-375-8055).

Regional Offices

Buffalo 14202 (Niagara Center, 130 S Elmwood Ave., 1-800-827-1000. Serves counties not served by New York City VA Regional Office.).

New York City 10014 (245 W Houston St., statewide 1-800-827-1000. Serves counties of Albany, Bronx, Clinton, Columbia, Delaware, Dutchess, Essex, Franklin, Fulton, Greene, Hamilton, Kings, Montgomery, Nassau, New York, Orange, Otsego, Putnam, Queens, Rensselaer, Richmond, Rockland, Saratoga, Schenectady, Schoharie, Suffolk, Sullivan, Ulster, Warren, Washington, Westchester.).

Benefits Offices

Albany 12208 (113 Holland Ave., 1-800-827-1000).

Rochester 14620 (465 Westfall Rd., 1-800-827-1000).

Syracuse 13202 (344 W Genesee St., 1-800-827-1000).

Vet Centers

Albany 12205 (17 Computer Drive West, 518-626-5130).

Babylon 11702 (116 West Main St., 631-661-3930).

Bronx 10458 (130 West Kingsbridge Rd., Rm. 7A-13, 718-367-3500).

Brooklyn 11201 (25 Chapel St., Suite 604, 718-624-2765).

Buffalo 14202 (564 Franklin St., 716-882-0505).

New York 10004 (32 Broadway, Suite 200, 212-742-9591).

New York 10027 (55 West 125th St., 11th Fl., 212-426-2200).

Rochester 14620 (1867 Mt. Hope Ave., 585-232-5040).

Staten Island 10301 (150 Richmond Terrace, 718-816-4499).

Syracuse 13210 (716 E Washington St., 315-478-7127).

White Plains 10601 (300 Hamilton Ave., 1st Fl., 914-682-6253).

Watertown 02601 (210 Court St., 315-782-0217).

Woodhaven 11421 (75-10B 91st Ave., 718-296-2871).

National Cemeteries

Bath 14810 (76 Veterans Ave., San Juan Ave., 607-664-4853).

Calverton 11933-1031 (210 Princeton Blvd., 631-727-5410/5770).

Cypress Hills 11208 (625 Jamaica Ave., Brooklyn, 631-454-4949).

Long Island 11735-1211 (2040 Wellwood Ave., Farmingdale, 631-454-4949).

Saratoga 12871-1721 (200 Duell Rd., Schuylerville, 518-581-9128).

Woodlawn 14901 (1825 Davis St., Elmira, 607-732-5411).

NORTH CAROLINA

VA Medical Centers

Asheville 28805 (1100 Tunnel Road, 828-298-7911).

Durham 27705 (508 Fulton St., 919-286-0411).

Fayetteville 28301 (2300 Ramsey St., 910-488-2120 or 800-771-6106).

Salisbury 28144 (1601 Brenner Avenue, 704-638-9000 or 800-469-8262).

Clinics

Charlotte 28213 (8601 University East Drive, 704-597-3500).

Charlotte 28208 (3506 West Tyvola Road, 704-329-1300).

Clayton 27520 (11618 U.S. 70 Business Highway West Suites 100 and 200)

Durham 27705 (1824 Hillandale Road, 919-383-6107).

Elizabeth City 27909 (1845 W City Drive).

Fayetteville 28304 (7300 South Raeford Road, 910-488-2120).

Fayetteville 28304 (4101 Raeford Road, Suite 100-B, 910-488-2120).

Fayetteville 28305 (2301 Robeson Street, 910-483-9727).

Franklin 28734 (647 Wayah Street, 828-369-1781).

Goldsboro 27534 (2610 Hospital Road, 919-731-4809).

Greenville 27834 (401 Moye Blvd., 252-830-2149).

Hamlet 28345 (100 Jefferson Street, 910-582-3536).

Hickory 28602 (2440 Century Place SE, 828-431-5600).

Hillandale 27705 (1824 Hillandale Road, 919-383-6107).

Jacksonville 28546 (4006 Henderson Drive, 910-353-6406).

Kernersville 27284 (1695 Kernersville Medical Parkway, 336-515-5000).

Morehead City 28557 (5420 Highway 70, 252-240-2349).

Pembroke 28372 (139 Three Hunts Drive, 910-272-3220).

Raleigh 27610 (3305 Sungate Blvd., 919-212-0129).

Raleigh II 27603 (3040 Hammond Business Place Suite 105, 919-899-6259).

Raleigh 27603 (Wake County VA Clinic, 3040 Hammond Business Place, Suite 105, 919-899-6259).

Raleigh III 27604 (2600 Atlantic Avenue, Suite 200, 919-286-0411).

Rutherford 28139 (374 Charlotte Road, 828-288-2780).

Sanford 27330 (3112 Tramway Road, 910-488-2120).

Supply 28462 (18 Doctors Circle, Suite 2, 910-754-6141).

Wilmington 28405 (1705 Gardner Road, 910-343-5300).

Regional Office

Winston-Salem 27155 (Federal Bldg., 251 N Main St., statewide 1-800-827-1000, nationwide Loan Guaranty Certificate of Eligibility Center 1-888-244-6711).

Vet Centers

Charlotte 28202 (223 S Brevard St., Suite 103, 704-333-6107).

Fayetteville 28311 (4140 Ramsey St., Suite 110, 910-488-6252).

Greensboro 27406 (2009 S Elm-Eugene St., 336-333-5366).

Greenville 27858 (150 Arlington Blvd., Suite B, 252-355-7920).

Raleigh 27604 (1649 Old Louisburg Rd., 919-856-4616).

National Cemeteries

New Bern 28560 (1711 National Ave., 252-637-2912).

Raleigh 27610-3335 (501 Rock Quarry Rd., 252-637-2912).

Salisbury 28144 (202 Government Rd., 704-636-2661/4621).

Wilmington 28403 (2011 Market St., 252-637-2912).

NORTH DAKOTA

VA Medical Center

Fargo 58102 (2101 Elm Street N, 701-239-3700 or 800-410-9723).

Clinics

Bismarck 58503 (2700 State Street, 701-221-9152).

Devils Lake 58301 (1031 7th Street Northeast, 701-662-5801).

Dickinson 58601 (766 Elks Drive, Suite 6H, 701-483-1850).

Grafton 58237 (1319 West 11th Street, 701-352-4059).

Grand Forks 58201 (3221 32nd Avenue South Suite 700, 701-335-4380).

Jamestown 58401 (2430 20th Street Southwest, Suite 8, 701-952-4787).

Minot 58705 (3400 South Broadway Street, 701-418-2600).

Williston 58801 (1542 16th Street West, Suite 300, 701-572-2470).

Regional Office

Fargo 58102 (2101 Elm St., statewide 1-800-827-1000).

Vet Centers

Bismarck 58501 (1684 Capital Way, 701-224-9751).

Fargo 58103 (3310 Fiechtner Dr., Suite 100, 701-237-0942).

Minot 58701 (2041 3rd St. NW, 701-852-0177).

National Cemetery

Fargo 58042 (8709 40th Ave. N, County Road 20, 701-451-4650).

OHIO

VA Medical Centers

Chillicothe 45601 (17273 State Route 104, 740-773-1141 or 800-358-8262).

Cincinnati 45220 (3200 Vine Street, 513-861-3100).

Cleveland 44106 (10701 East Blvd., 216-791-3800).

Columbus 43203 (420 N James Road, 614-257-5200 or 888-615-9448).

Dayton 45428 (4100 W 3rd Street, 937-268-6511 or 800-368-8262).

Clinics

Akron 44319 (55 W Waterloo 330-724-7715).

Ashtabula 44004 (2044 Lambros Lane, 440-964-6454).

Athens 45780 (88 North Plains Road 740-592-7720).

Bellevue, KY 4073-1399 (103 Landmark Drive, Suite 300, 859-392-3840).

Belmont 43950 (67800 Mall Ring Road 740-695-9321).

Calcutta 43920-9672 (15655 State Route 170, Suite A, 330-386-4303).

Cambridge 437275 (2146 Southgate Pkwy., 740-432-1963).

Canton 44702 (733 Market Avenue South, 330-489-4600).

Cincinnati 45244 (4600 Beechwood Road, 513-943-3680).

Cleveland 44113 (4242 Lorain Ave., 216-939-0699).

Columbus 43219 (420 N James Road, 614-257-5200).

Florence KY 41042-1385 (7310 Turfway Road, Suite 510, 859-282-4480).

Gallipolis 45631 (323A Upper River Road, 740-446-3934).

Georgetown 45121 (474 Home Street, 937-378-3413).

Greendale, IN (Dearborn VA Clinic, 1600 Flossie Drive, 812-539-2313).

Grove City 43123 (5775 North Meadows Drive, Suite A, 614-257-5800).

Hamilton 45011 (1750 South Erie Highway, 513-870-9444).

Lancaster 43130 (1703 North Memorial Drive, 740-653-6145).

Lima 45804 (1303 Bellefontaine Ave., 419-222-5788).

Mansfield 44906 (1025 South Trimble Rd., 419-529-4602).

Marietta 45750 (27843 State Route 7, 740-568-0412).

Marion 43302 (1203 Delaware Avenue, Suite 2, Corporate Center #2, 740-223-8089).

Middletown 45042 (4337 North Union Road, 513-423-8387).

New Philadelphia 44663 (1260 Monroe Ave., Suite 1A, 330-602-5339).

Newark 43055 (1855 West Main Street, 740-788-8329).

Norwood 45212-2784 (4600 Smith Road, Central Station, SuiteA6).

Parma 44129 (8787 Brookpark Road, 216-739-7000).

Portsmouth 45622 (840 Gallia Street, 740-353-3236).

Ravenna 44266 (6751 N Chestnut St., 330-296-3641).

Sandusky 44870 (1912 Hayes Avenue, 419-609-1460).

Sheffield Village 44035 (5255 North Abbe Road, 440-934-9158).

Springfield 45505 (1620 N Limestone St., 937-268-6511).

St. Clairsville 43950 (107 Plaza Dr., 740-695-9321).

Toledo 43614 (1200 S Detroit Avenue, 419-259-2000).

Warren 44485 (1460 Tod Ave. NW, 330-392-0311).

Willoughby 44094 (3500 Kaiser Court, 440-269-4600).

Wilmington 45177 (448 West Main Street, 937-382-3949).

Youngstown 44505 (2031 Belmont Avenue, 330-740-9200).

Zanesville 43701 (2800 Maple Ave., 740-453-7725).

Regional Office

Cleveland 44199 (Anthony J. Celebrezze Fed. Bldg., 1240 E 9th St., 1-800-827-1000)—Fiduciary Duties for Connecticut, Delaware, Indiana, Maine, Massachusetts, Michigan, New Hampshire, New Jersey, New York, Ohio, Pennsylvania, Rhode Island, Vermont (1-800-729-5772).

Benefits Offices

Cincinnati 45202 (36 E Seventh St., Suite 210, 1-800-827-1000).

Columbus 43215 (Federal Bldg., Rm. 309, 200 N High St., 1-800-827-1000).

Vet Centers

Cincinnati 45203 (801-B W 8th St., 513-763-3500).

Cleveland Heights 44118 (2022 Lee Rd., 216-932-8471).

Columbus 43215 (30 Spruce St., 614-257-5550).

Dayton 45402 (111 W 1st St., Suite 101, 937-461-9150).

Parma 44129 (5700 Pearl Rd., Suite 102, 440-845-5023).

National Cemeteries

Dayton 45428-1088 (4100 W Third St., 937-262-2115).

Ohio Western Reserve 44270 (10175 Rawiga Rd., Rittman, 330-335-3069).

OKLAHOMA

VA Medical Centers

Muskogee 74401 (1011 Honor Heights Drive, 918-577-3000).

Oklahoma City 73104 (921 NE 13th Street, 405-456-1000).

Clinics

Ada 74820 (717 Better Now Plaza, 580-436-2262).

Altus 73521(1604 N Main Highway 283, 580-482-0721).

Ardmore: 73401(2002 12th Avenue NW, Suite E, 580-222-0400).

Blackwell 74631 (1009 W Ferguson Ave., 580-363-0052).

Enid 73701 (915 E Owen K. Garriott, Suite G, 580-977-1855).

Fort Sill 73503 (4303 Pittman and Thomas Bldg. 4303, 580-585-5600).

Idabel 74745 (903 SE Washington St., 580-920-7200).

Jay 74346 (1569 North Main Street, 888-424-8387).

McAlester 74501 (2 E Clark Bass Blvd., 888-397-8387).

Muskogee 74403 (2414 E. Shawnee Bypass, 918-577-3699).

Oklahoma City 73120 (2915 Pine Ridge Road, 405-752-6500).

Stillwater 74074 (320 N Perkins Ave, 405-70-8100).

Tulsa 74135 (5110 South Yale, Suite 200, 918-628-2574).

Vinta 74301 (269 S 7th St 918-713-5400).

Regional Office

Muskogee 74401 (Federal Bldg., 125 S Main St., Compensation & Pension: 1-800-827-1000, Education National Call Center: 1-888-442-4551, National Direct Deposit: 1-877-838-2778).

Benefits Office

Oklahoma City 73102 (Federal Campus, 301 NW 6th St., Suite 113, 1-800-827-1000).

Vet Centers

Oklahoma City 73118 (1024 NW 47th, 405-270-5184).

Tulsa 74112 (1408 S Harvard, 918-748-5105).

National Cemeteries

Fort Gibson 74434 (1423 Cemetery Rd., 918-478-2334).

Fort Sill 73538 (2648 NE Jake Dunn Rd., 580-492-3200).

OREGON

VA Medical Centers

Portland 97239 (3710 SW U.S. Veterans Hospital Rd., 503-220-8262 or outside Portland area 800-949-1004).

Roseburg 97471 (913 NW Garden Valley Blvd., 541-440-1000 or 800-549-8387).

Domiciliaries

White City 97503 (8495 Crater Lake Hwy., 541-826-2111).

Clinics

Boardman 97818 (2 Marine Drive, Suit 103, 541-481-2255).

Bend 97701 (2650 NE Courtney Drive, 541-647-5200 or 855-213-8002).

Brookings 97415 (840 Railroad St., 541-412-1152).

Burns 97720 (271 N Egan Ave., 541-573-3339).

Dalles 97058 (704 Veterans Drive, 541-296-3937).

Enterprise 97828 (401 NE 1st Street, 541-426-0219).

Eugene 97401 (211 E. 7th Ave., Suite 118, 541-440-1000).

Eugene 97408 (3355 Chad Dr., 541-607-0897).

Fairview 97024 (1800 NE Market Drive, 503-660-0600).

Grants Pass 97527 (1877 Williams Hwy., 541-955-5551).

Hillsboro 97006 (1925 NE Stucki Ave., Suite #300, 503-906-5000).

Klamath Falls 97601 (2225 North El Dorado Blvd., 541-273-6206).

La Grande 97850 (202 12th Street, 541-963-0627).

Lincoln City 97367 (4422 NE Devils Lake Road, 541-265-0547).

Newport 97365 (1010 SW Coast Highway, 541-265-4182).

North Bend 97459 (2191 Marion Street North, 541-756-8002).

Portland 97704 (308 SW 1st Ave., 503-508-1256 or 800-949-1004).

Salem 97302 (1750 McGilchrist St. SE, Suite 130, 971-304-2200).

Warrenton 97146 (91400 N Neacoxie St., Building 7315, 503-220-8262).

West Linn 97068 (1750 SW Blankenship, 503-210-4900).

Regional Office

Portland 97204 (Edith Green/Wendell Wyatt Federal Building, 1220 SW Third Ave., 1-800-827-1000).

Vet Centers

Eugene 97403 (1255 Pearl St., 541-465-6918).

Grants Pass 97526 (211 SE 10th St., 541-479-6912).

Portland 97220 (8383 NE Sandy Blvd., Suite 110, 503-273-5370).

Salem 97301 (617 Chemeketa St., NE, 503-362-9911).

National Cemeteries

Eagle Point 97524 (2763 Riley Rd., 541-826-2511).

Roseburg 97470 (1770 Harvard Blvd., 541-826-2511).

Willamette 97266-6937 (11800 SE Mt. Scott Blvd., Portland, 503-273-5253).

PENNSYLVANIA

VA Medical Centers

Aatona 16602 (2907 Pleasant Valley Boulevard, 814-943-8164).

Butler 16001 (353 North Duffy Road, 724-287-4781 or 800-362-8262).

Coatesville 19320 (1400 Black Horse Hill Road, 610-384-7711).

Erie 16504 (135 East 38 Street, 814-868-8661 or 800-274-8387).

Lebanon 17042 (1700 South Lincoln Avenue, 717-272-6621 or 800-409-8771).

Philadelphia 19104 (3900 Woodland Aves., 800-949-1001 or 215-823-5800).

Pittsburgh 15260 (Delafield Road, 866-482-7488 or 412-688-6000).

Pittsburgh 15206 (Highland Drive Division, 7180 Highland Drive, 412-365-4900 or 1-866-4VAPITT).

Pittsburgh 15240 (University Drive Division, University Drive, 1-42-822-2222).

Wilkes-Barre 18711 (1111 East End Blvd., 570-824-3521 or 877-928-2621).

Clinics

Allentown 18103 (3110 Hamilton Boulevard, 610-776-4304).

Bangor 18013 (701 Slate Belt Boulevard, 610-599-0127).

Berwick 18603 (301 W Third Street, 570-759-0351).

Bradford 16701 (23 Kennedy Street, 814-368-3019).

Camp Hill 17011 (25 N 32nd Street, 717-730-9782).

Coudersport 16915 (24 Maple Vie Lane, Suite 2, 607-664-4670).

Cranberry Township 16066 (900 Commonwealth Drive, 724-742-3500 or 724-741-3131).

DuBois 15801 (5690 Shaffer Road, 877-626-2530).

Ellwood City 16117 (Ellwood City Hospital, Medical Arts Building, #201, 304 Evans Drive, 724-285-2203).

Foxburg 16036 (ACV Medical Center, 855 Route 58, Suite 1, 724-659-5601).

Frackville 17931 (10 East Spruce St., 570-621-4904).

Greensburg 15601 (Hempfield Plaza, Route 30, 724-837-5200).

Franklin 16323 (464 Allegheny Blvd., 866-962-3260)

Greensburg 15601 (5274 Rt. 30 East, Suite 10, 724-216-0317).

Hermitage 16148 (295 N Kerrwood Dr., Suite 110, 724-346-1569).

Honesdale 18431 (600 Maple Ave., Suite 2, 570-251-6543).

Horsham 19044 (433 Caredean Dr., 215-823-6050).

Indiana 15701 (1570 Oakland Avenue, 724-349-8900).

Johnstown 15904 (598 Galleria Drive).

Kittanning 16201 (11 Hilltop Plaza, 724-545-8420).

Lancaster 17605 (1861 Charter Lane, Green Field Corp. Center, #118, 717-290-6900).

Mapleton Depot 17052 (13903 William Penn Highway, 814-542-2800).

Meadville 16335 (Conneaut Lake Road, 866-962-3210).

Mechanicsburg 17055 (5070 Ritter Road, 800-409-8771).

Monaca 15061 (90 Wagner Rd., 724-216-0326).

Monroe Township 16214 (56 Clarion Plaza, Suite 115, 814-226-3900).

New Castle 16101 (Ridgewood Professional Centre, 1750 New Butler Road, 724-598-6080).

Newtown Square 19073 (4883 West Chester Pike, 610-383-0239).

Oil City 16301 (174 Bissell Avenue, 814-678-2631).

Oil City 16301 (Venango County Clinic, UPMC Northwest, 174 E Bissell Ave., 814-677-7591 or 800-274-8387).

Philadelphia 19106 (213-217 North 4th Street, 215-923-1163).

Pottsville 17901 (1410 Laurel Blvd. Suite 2, 800-409-8771).

Reading 19601 (St. Joseph's Community Center, 145 N 6th St., 610-208-4717).

Rochester 15074 (300 Brighton Ave., Suite 110, 724-709-6005).

Sayre 18840 (1537 Elmira St., 570-888-6803).

Schuylkill 17972 (6 South Greenview Rd., 570-621-4115).

Smethport 16749 (406 Franklin Street, 814-887-5655).

Spring City 19475 (11 Independence Drive, 610-948-0981).

Springfield 19064 (Crozer Keystone Healthplex, 194 W Sproul, Rd., #105, 610-543-3246).

State College 16801 (2581 Clyde Ave., 877-626-2530).

Tobyhanna 18466 (Tobyhanna Army Depot Building 220, 570-615-8341).

Uniontown 15401 (627 Pittsburgh Road, Suite 2, 724-439-4990).

Warren 16365 (3 Farm Colony Dr., 866-682-3253).

Washington 15301 (95 West Beau St., Suite 200, 724-253-7790).

Wellsboro 16901 (1835 Shumway Hill Road, 607-664-4680 or 877-845-3247).

Wilkes-Barre 18711 (1111 East End Boulevard, 570-924-3521).

Willow Street 17584 (212 Willow Valley Lakes Drive, Suite 208, 800-409-8771).

Williamsport 17701 (1705 Warren Ave., Werner Blg., 3rd Fl., #304, 570-322-4791).

Wyomissing 19610 (2762 Century Blvd., 800-409-8771).

York 17402 (2251 Eastern Blvd., 800-409-8771, 717-840-2730).

Regional Offices

Philadelphia 19101 (Regional Office and Insurance Center, P.O. Box 8079, 5000 Wissahickon Ave., 1-800-827-1000; Serves counties of Adams, Berks, Bradford, Bucks, Cameron, Carbon, Centre, Chester, Clinton, Columbia, Dauphin, Delaware, Franklin, Juniata, Lackawanna, Lancaster, Lebanon, Lehigh, Luzerne, Lycoming, Mifflin, Monroe, Montgomery, Montour, Northampton, Northumberland, Perry, Philadelphia, Pike, Potter, Schuylkill, Snyder, Sullivan, Susquehanna, Tioga, Union, Wayne, Wyoming, York.).

Pittsburgh 15222 (1000 Liberty Ave., statewide 1-800-827-1000. Serves remaining counties of Pennsylvania.).

Benefits Office

Wilkes-Barre 18702 (1123 East End Blvd., Bldg. 35, Suite 11, 1-800-827-1000).

Vet Centers

Erie 16501 (1000 State St., Suite 1&2, 814-453-7955).

Harrisburg 17102 (1500 N 2nd St., Suite 2, 717-782-3954).

McKeesport 15131 (2001 Lincoln Way, 412-678-7704).

Philadelphia 19107 (801 Arch St., Suite 102, 215-627-0238).

Philadelphia 19120 (101 E Olney Ave., 215-924-4670).

Pittsburgh 15205 (2530 Baldwick Rd., Suite 15, 412-920-1765).

Scranton 18505 (1002 Pittston Ave., 570-344-2676).

Williamsport 17701 (805 Penn St., 570-327-5281).

National Cemeteries

Indiantown Gap 17003-9618 (RR 2, P.O. Box 484, Indiantown Gap Rd., Annville, 717-865-5254).

National Cemetery of the Alleghenies 15017 (1158 Morgan Rd., Bridgeville, 724-746-4363).

Philadelphia 19138 (Haines St. and Limekiln Pike, 215-504-5610).

Washington Crossing 18940 (830 Highland Road, 215-504-5610).

PHILIPPINES

Clinic

Pasay City 1302 (1501 Roxas Blvd., 011-632-8550-3888).

Regional Office

Manila 0930 (1131 Roxas Blvd., 011-632-528-6300, International Mailing Address PSC 501, FPO AP 96515-1100).

PUERTO RICO

VA Medical Center

San Juan 00921-3201 (10 Casia Street, 787-641-7582).

Clinics

Arecibo 00612 (Galeria Pacifico Road, PR-10, 787-641-7582 or 800-449-8729).

Comerio 00782 (15 De Diego Street, 787-522-2660).

Guayama 00784 (FISA Bldg., 1st Floor, Paseo Del Pueblo, km 0.3, lote no 6, 787-866-8886).

Mayagüez 00682 (175 Algarrobo Avenue, 787-641-7582).

Ponce 00716-2001 (Paseo Del Veterano #1010, 787-641-7582).

Pueblo Ward 00735 (PR-3, km 54.9, Lot #3, 787-641-7582 or 800-449-8729).

Utuado 00641 (Isaac Gonzalez Street, Equina Ledesma, 787-522-2650).

Vieques 00765 (Co Destino Carretera #997, 787-641-7582).

Regional Office

San Juan 00918-1703 (150 Carlos Chardon Ave., Suite 300. Send mail to Suite 232. Serving all Puerto Rico and the Virgin Islands, 1-800-827-1000).

Benefits Offices

Mayaguez 00680 (Ave. Hostos 345, Carretera 2, Frente al Centro Medico, 1-800-827-1000).

Ponce 00731 (10 Paseo del Veterano, 1-800-827-1000).

Arecibo 00612 (Gonzalo Marin 50, 1-800-827-1000).

Vet Centers

Arecibo 00612-4702 (52 Gonzalo Marin St., 787-879-4510/4581).

Ponce 00731 (35 Mayo St., 787-841-3260).

San Juan 00921 (Condominio Med. Ctr. Plaza, Suite LC8A11, La Riviera, 787-749-4409).

National Cemetery

Puerto Rico 00961 (Ave. Cementerio Nacional 50, Barrio Hato Tejas, Bayamon, 787-798-8400).

RHODE ISLAND

VA Medical Center

Providence 02908 (830 Chalkstone Avenue, 401-273-7100).

Clinic

Middletown 02842 (One Corporate Place, 401-847-6239).

Regional Office

Providence 02903 (380 Westminster St. statewide 1-800-827-1000).

Vet Center

Warwick 02889 (2038 Warwick Ave., 401-739-0167).

SOUTH CAROLINA

VA Medical Centers

Charleston 29401 (109 Bee Street, 843-577-5011).

Columbia 29209 (6439 Garners Ferry Road, 803-776-4000).

Clinics

Aiken 29803 (951 Millbrook Avenue, 803-643-9016).

Anderson 29621 (3030 North Highway 81, 864-224-5450).

Beaufort 29902 (1 Pinckney Blvd., 843-770-0444).

Florence 2950 (1822 Sally Hill Farms Road, 843-292-8383).

Goose Creek 29445 (2418 NNPTC Circle, 843-577-5011).

Greenville 29605 (41 Park Creek Drive, 864-299-1600).

Myrtle Beach 29577 (3381 Phillis Blvd., 843-477-0177).

Myrtle Beach-Market Common 29577 (1101 Johnson Avenue, 843-477-0177).

North Charleston 29406 (9237 University Blvd., 843-789-6400).

North Charleston 29406 (9229 University Blvd., Bldg. F, Suite 2A, 843-789-6400).

Orangeburg 29118 (1767 Villagepark Drive, 803-533-1335).

Rock Hill 29732 (2670 Mills Park Drive, 803-366-4848).

Spartanburg 29303 (279 North Grove Medical Park Drive, 864-582-7025).

Sumter 29150 (407 North Salem Avenue, 803-938-9901).

Regional Office

Columbia 29201 (1801 Assembly St., statewide 1-800-827-1000).

Vet Centers

Columbia 29201 (1513 Pickens St., 803-765-9944).

Greenville 29601 (14 Lavinia Ave., 864-271-2711).

North Charleston 29406 (5603-A Rivers Ave., 843-747-8387).

National Cemeteries

Beaufort 29902-3947 (1601 Boundary St., 843-524-3925).

Florence 29501 (803 E National Cemetery Rd., 843-669-8783).

SOUTH DAKOTA

VA Medical Centers

Fort Meade 57741 (113 Comanche Road, 605-347-2511).

Hot Springs 57747 (500 North 5th Street, 605-745-2000).

Sioux Falls 57105 (2531 West 22nd Street, 605-336-3230).

Clinics

Aberdeen 57401 (2301 8th Avenue NE, Suite 225, 605-229-3500).

Dakota Dunes 57049 (380 West Anchor Drive, 605-232-2800).

Eagle Butte 57625 (24348 Fox Ridge Road, 605-823-4574).

Mission 57555 (153 Main Street, 605-856-2295).

Pierre 57501 (1601 North Harrison, Suite 6, 605-945-1710).

Pine Ridge 57770 (Hospital Road, Pine Ridge Indian Reservation, 605-867-2393).

Rapid City 57701 (3625 5th Street, 605-718-1095).

Watertown 57201 (4 19th Street NE, 605-884-2420).

Winner 57580 (660 West 2nd Street, 605-842-2443).

Regional Office

Sioux Falls 57117 (P.O. Box 5046, 2531 W 22nd St., statewide 1-800-827-1000).

Vet Centers

Martin 57551 (East Hwy. 18, 605-685-1300).

Rapid City 57701 (621 6th St., Suite 101, Kansas City St., 605-348-0077).

Sioux Falls 57104 (601 S. Cliff Ave., Suite C, 605-330-4552).

National Cemeteries

Black Hills 57785 (20901 Pleasant Valley Dr., Sturgis, 605-347-3830).

Fort Meade 57785 (P.O. Box 640, Old Stone Rd., Sturgis, 605-347-3830).

Hot Springs 57747 (500 N 5th St., 605-347-3830).

TENNESSEE

VA Medical Centers

Memphis 38104 (1030 Jefferson Avenue, 901-523-8990).

Mountain Home 37684 (Corner of Lamont Street and Veterans Way, 423-926-1171).

Murfreesboro 37129 (3400 Lebanon Pike, 615-867-6000).

Nashville 37212 (1310 24th Avenue South, 615-327-4751).

Clinics

Arnold Air Force Base 37389 (225 Von Karman Road, 931-454-6134).

Athens 37303 (1320 Decatur Pike, 423-746-1410).

Chattanooga 37411 (6098 Debra Road, Suite 5200, Bldg. 6200, 423-893-6500).

Chattanooga 37421 (1208 Pointe Center Drive, 423-893-6500).

Clarksville 37043 (782 Weatherly Drive, 931-645-3552).

Clarksville Dental 37043 (2291 Dalton Drive, Suite F).

Cookeville 38501 (851 South Willow Avenue, Suite 108, 931-284-4060).

Columbia 38401 (833 Nashville Highway, 931-981-6930).

Dover 37058 (1406 Donelson Parkway, 931-232-5138).

Dyersburg 38024 (1067 Vendall Road, 731-287-7289).

Gallatin 37066 (419 Steam Plant Road).

Harriman 37748 (2305 North Gateway Avenue, Suite 2, 865-882-2010).

Jackson 38305 (180 Old Hickory Blvd., 731-661-2750).

Knoxville 37919 (1521 Downtown West Blvd., 865-545-4592).

Knoxville 37919 (8033 Ray Mears Blvd., 865-545-4592).

Knoxville 37919 (1557 Downtown West Blvd., 865-545-4592).

LaFollette 37766 (130 Independence Lane, 3rd Floor, 423-563-7666).

McMinnville 37110 (1014 South Chancery Street, 931-474-7700).

Memphis 38127 (3461 Austin Peay Highway, 901-261-4500).

Memphis 38132 (1689 Nonconnah Blvd., 901-271-4900).

Morristown 37813 (925 East Morris Blvd., 423-586-9100).

Nashville 37208 (1810 Albion Street, 615-873-6700).

Nashville 37217 (2 International Plaza, 615-367-5928).

North Savannah 38372 (70 Harbert Drive, 731-727-8390).

Rogersville 37857 (401 Scenic Drive, 423-235-1471).

Sevierville 37862 (1124 Blanton Drive, 865-286-6950).

Regional Office

Nashville 37203 (110 9th Ave. South, statewide 1-800-827-1000).

Vet Centers

Chattanooga 37411 (951 Eastgate Loop Rd., Bldg. 5700, Suite 300, 423-855-6570).

Johnson City 37604 (1615A W Market St., 423-928-8387).

Knoxville 37914 (2817 E Magnolia Ave., 865-545-4680).

Memphis 38104 (1835 Union, Suite 100, 901-544-0173).

Nashville 37217 (Airpark Bus. Cen. 1, Suite A-5, 1420 Donelson Pike, 615-366-1220).

National Cemeteries

Chattanooga 37404 (1200 Bailey Ave., 423-855-6590).

Knoxville 37917 (939 Tyson St. NW, 423-855-6590).

Memphis 38122 (3568 Townes Ave., 901-386-8311).

Mountain Home 37684 (P.O. Box 8, VAMC, Bldg. 117, 423-979-3535).

Nashville 37115-4619 (1420 Gallatin Rd. S, Madison, 615-860-0086).

TEXAS

VA Medical Centers

Amarillo 79106 (6010 Amarillo Boulevard West, 806-355-9703).

Big Spring 79720 (300 Veterans Blvd., 432-263-7361).

Bonham 75418 (1201 East 9th Street, 903-583-2111 or 800-924-8387).

Dallas 75216 (4500 South Lancaster Road, 214-742-8387 or 800-849-3597).

El Paso 79930 (5001 North Piedras Street, 915-564-6100).

Harlingen 78550 (2601 Veterans Drive, 956-291-9000 or 855-864-0516).

Houston 77030 (2002 Holcombe Blvd., 713-791-1414).

Kerrville 78028 (3600 Memorial Blvd., 866-487-1653).

San Antonio 78229 (7400 Merton Minter Blvd., 210-617-5300).

Temple 76504 (1901 Veterans Memorial Drive, 254-778-4811 or 800-423-2111).

Waco 76711 (4800 Memorial Drive, 254-752-6581 or 800-423-2111).

Clinics

Abilene 79606 (3850 Ridgemont, 325-695-3252).

Austin 78744 (7901 Metropolis Drive, 800-423-2111).

Beaumont 77707 (3420 Veterans Circle, 409-981-8550 or 800-833-7734).

Beeville 78102 (302 South Hillside Drive, 361-358-9912).

Brownwood 76801 (2600 Memorial Park Drive, 325-641-0568).

Cedar Park 78613 (1401 Medical Parkway, Bldg. C, Suite 400, 800-423-2111).

Childress 79201 (1001 Highway 83 North, 940-937-8528).

College Station 77845 (1651 Rock Prairie Road, Suite 100, 979-680-0361).

Conroe 77304 (690 South Loop 336 West, Suite 300, 936-522-4000 or 800-553-2278).

Corpus Christi 78405 (5283 Old Brownsville Road, 361-806-5600).

Corpus Christi 78405 (205 South Enterprize Parkway, 361-939-6510).

Corpus Christi 78405 (5227 Old Brownsville Road, Suite 11, 361-806-5600).

Dalhart 79022 (325 Denver Avenue, 806-249-0673).

Dallas 75224 (4243 South Polk Street, 214-372-8100).

Decatur 76234 (1713 South FM 51, 940-627-7001).

Denton 76205 (2223 Colorado Blvd., 940-891-6350).

El Paso 79936 (2400 Trawood Drive, Suite 200, 915-217-2428).

Fort Worth 76119 (2201 SE Loop 820, 817-730-0000 or 800-443-9672).

Fort Stockton 79735 (2071 North Main, 432-685-2110).

Galveston 77550 (3828 Avenue N, 409-741-3200 or 800-553-2278).

Granbury 76048 (1210 Paluxy Medical Circle, 817-326-3902).

Grand Prairie 75051 (2737 Sherman Street, 214-857-3450).

Greenville 75401 (4006 Wellington Road, Suite 100A, 903-450-1143).

Katy 77450 (750 Westgreen Blvd., 281-578-4600 or 800-553-2278).

La Grange 78945 (2 St. Marks Place, 800-423-2111).

Lake Jackson 77566 (208 Oak Drive South, 979-230-4852 or 800-553-2278).

Laredo 78041 (4602 North Bartlett, 956-523-7850).

Longview 75601 (1005 North Eastman Road, 903-247-8262 or 800-957-8262).

Lubbock 79412 (6104 Avenue Q South Drive, 806-472-3400).

Lufkin 75904 (2206 North John Redditt Drive, 836-671-4300 or 800-209-3120).

McAllen 78503 (901 East Hackberry Avenue, 956-618-7100).

New Braunfels 78130 (705 Landa Street, Suite C, 830-643-0717).

Odessa 79762 (8050 East Highway 191, 432-685-2110).

Palestine 75801 (2000 So. Loop 256, Suite 124, 903-723-9006).

Plano 75075 (3804 West 15th Street, 972-801-4200).

Richmond 77469 (22001 Southwest Freeway, Suite 200, 832-595-7700 or 800-553-2278).

San Angelo 76904 (4240 Southwest Blvd., 325-658-6138).

San Antonio 78201 (4522 Fredericksburg Road, Suites A10 and A88, 210-732-1802).

San Antonio 78217 (2391 NE Loop 410, Suite 101, 210-590-0247).

San Antonio 78221 (1714 SW Military Drive, Suite 101, 210-923-0777).

San Antonio 78222 (4243 East Southcross Blvd., Suite 204, 210-337-4316).

San Antonio 78222 (4610 East Southcross Blvd., Suite 100, 210-648-1491).

San Antonio 78228 (4318 Woodcock, Suite 120, 210-736-4051).

San Antonio Dental Clinic 78229 (8410 Data Point, 210-949-8900).

San Antonio 78232 (17440 Henderson Pass, 210-483-2900).

San Antonio 78240 (5788 Eckhert Road, 210-699-2100).

San Antonio 78249 (4350 Lockhill-Selma Road, Suite 200, 210-949-3773).

Seguin 78155 (526 East Court Street, 830-372-1697).

Sheppard AFB, 76311 (149 Hart Street, Bldg. 1200, 2nd Floor, 940-257-0001).

Sherman 75090 (3811 US 75 N, 903-487-0477).

Stamford 79553 (1601 North Columbia, 325-695-3252).

Temple 76502 (4501 South General Bruce Drive, Suite 75, 254-778-4811 or 800-423-2111).

Texas City 77591 (9300 Emmett F. Lowry Expressway, Suite 206, 409-986-2900 or 800-553-2278).

Tomball 77375 (1200 West Main Street, 281-516-1505 or 800-553-2278).

Tyler 75703 (7916 South Broadway Avenue, 903-266-5900 or 855-375-6930).

Victoria 77901 (1908 North Laurent Street, Suite 150, 361-582-7700).

Regional Offices

Houston 77030 (6900 Almeda Rd., statewide, 1-800-827-1000. Serves counties of Angelina, Aransas, Atacosa, Austin, Bandera, Bee, Bexar, Blanco, Brazoria, Brewster, Brooks, Caldwell, Calhoun, Cameron, Chambers, Colorado, Comal, Crockett, DeWitt, Dimitt, Duval, Edwards, Fort Bend, Frio, Galveston, Gillespie, Goliad, Gonzales, Grimes, Guadeloupe, Hardin, Harris, Hays, Hidalgo, Houston, Jackson, Jasper, Jefferson, Jim Hogg, Jim Wells, Karnes, Kendall, Kennedy, Kerr, Kimble, Kinney, Kleberg, LaSalle, Lavaca, Liberty, Live Oak, McCulloch, McMullen, Mason, Matagorda, Maverlck, Medina, Menard, Montgomery, Nacogdoches, Newton, Nueces, Orange, Pecos, Polk, Real, Refugio, Sabine, San Augustine, San Jacinto, San Patricio, Schleicher, Shelby, Starr, Sutton, Terrell, Trinity, Tyler, Uvalde, Val Verde, Victoria, Walker, Waller, Washington, Webb, Wharton, Willacy, Wilson, Zapata, Zavala)—Fiduciary Duties for Arkansas, Louisiana, Oklahoma, Texas (1-888-232-2571 Ext. 1855)

Waco 76799 (One Veterans Plaza, 701 Clay; statewide, 1-800-827-1000; serves the rest of the state. In Bowie County, the City of Texarkana is served by Little Rock, AR, VA Regional Office, 1-800-827-1000.).

Benefits Offices

Abilene 79602 (Taylor County Plaza Bldg., Suite 103, 400 Oak St., 1-800-827-1000).

Amarillo 79106 (6010 Amarillo Blvd. W., 1-800-827-1000).

Austin 78741 (2901 Montopolis Dr., Room 108, 1-800-827-1000).

Corpus Christi 78405 (4646 Corona Dr., Suite 150, 1-800-827-1000).

Dallas 75216 (4500 S. Lancaster Rd., 1-800-827-1000).

El Paso 79930 (5001 Piedras Dr., 1-800-827-1000).

Ft. Worth 76104-4856 (300 W. Rosedale St., 1-800-827-1000).

Lubbock 79410 (6104 Ave. Q S Drive, Rm. 132, 1-800-827-1000).

McAllen 78503 (109 Toronto Ave., 1-800-827-1000).

San Antonio 78240 (5788 Eckert Rd., 1-800-827-1000).

Temple 76504 (1901 Veterans Memorial Dr., Room 5G38 [BRB], 1-800-827-1000).

Tyler 75701 (1700 SSE Loop 323, Suite 310, 1-800-827-1000).

Vet Centers

Amarillo 79109 (3414 Olsen Blvd., Suite E, 806-354-9779).

Austin 78745 (1110 W Will Cannon Dr., Suite 301, 512-416-1314).

Corpus Christi 78411 (4646 Corona, Suite 253, 361-854-9961).

Dallas 75231 (10501 N Central Expressway, Suite 213, 214-361-5896).

El Paso 79925 (1155 Westmoreland, Suite 121, 915-772-0013).

Fort Worth 76104 (1305 W Magnolia, Suite B, 817-921-9095).

Harker Heights 76548 (302 Millers Crossing, Suite #4, 254-953-7100).

Houston 77006 (2990 Richmond Ave., Suite 325, 713-523-0884).

Houston 77024 (701 N Post Oak Rd., Suite 102, 713-682-2288).

Laredo 78041 (6020 McPherson Rd., 1A, 956-723-4680).

Lubbock 79410 (3208 34th St., 806-792-9782).

McAllen 78504 (801 Nolana, Suite 140, 956-631-2147).

Midland 79703 (3404 W Illinois, Suite 1, 432-697-8222).

San Antonio 78212 (231 W Cypress St., Suite 100, 210-472-4025).

National Cemeteries

Dallas-Fort Worth 75211 (2000 Mountain Creek Parkway, 214-467-3374).

Fort Bliss 79906 (Box 6342, 5200 Fred Wilson Rd., 915-564-0201).

Fort Sam Houston 78209 (1520 Harry Wurzbach Rd., San Antonio, 210-820-3891/3894).

Houston 77038 (10410 Veterans Memorial Dr., 281-447-8686).

Kerrville 78028 (VAMC, 3600 Memorial Blvd., 210-820-3891/3894).

San Antonio 78202 (517 Paso Hondo St., 210-820-3891/3894).

UTAH

VA Medical Center

Salt Lake City 84148 (500 Foothill Drive, 801-582-1565).

Clinics

Moab 84403 (702 South Main Street, 435-719-4144).

Ogden 84403 (982 Chambers Street, 801-479-4105).

Orem 84057 (1443 West 800 North, Suite 302, 801-235-0953).

Price 84501 (189 South 600 West, Suite B, 435-613-0342).

Roosevelt 84066 (245 West 200 North, 435-725-1050).

St. George 84790 (230 North 1680 East, Building N, 435-634-7608).

South Ogden 84403 (5957 Fashion Pointe Dr., Suite 103, 801-479-4105).

West Valley City 84120 (2750 South 5600 West, Suite B, 801-417-5734).

Regional Office

Salt Lake City 84158 (P.O. Box 581900, 550 Foothill Dr., statewide 1-800-827-1000).

Vets Centers

Provo 84604 (1807 No. 1120 West, 801-377-1117).

Salt Lake City 84106 (1354 East 3300 South, 801-584-1294).

VERMONT

VA Medical Center

White River Junction 05009 (215 North Main Street, 802-295-9363).

Clinics

Bennington 05201 (186 North Street, 802-440-3300).

Brattleboro 05301 (71 GSP Drive, 802-251-2200).

Burlington 05401 (128 Lakeside Ave., Suite 260, 802-657-7000).

Newport 05855 (1734 Crawford Farm Rd., 802-624-2400).

Rutland 05701 (232 West Street, 802-772-2300).

Regional Office

White River Junction 05001 (215 N Main St., 802-296-5177 or 1-800-827-1000 from within Vermont).

Vets Centers

South Burlington 05403 (359 Dorset St., 802-862-1806).

White River Junction 05001 (222 Holiday Inn Dr., #2 Gilman Office Complex, 802-295-2908 or 1-800-649-6603).

VIRGINIA

VA Medical Centers

Hampton 23667 (100 Emancipation Drive, 757-722-9961).

Richmond 23249 (1201 Broad Rock Boulevard, 804-675-5000).

Salem 24153 (1970 Roanoke Boulevard, 540-982-2463).

Clinics

Bristol 24202 (2426 Lee Highway, 276-645-4520).

Charlottesville 22911 (590 Peter Jefferson Pkwy., 2nd Floor, Suite 253, 434-293-3890).

Chesapeake 23320 (1987 S Military Hwy., 757-722-9961).

Danville 24540 (705 Piney Forest Rd., 434-710-4210).

Fort Belvoir 22060 (9300 DeWitt Loop Sunrise Pavilion, 571-231-2408).

Fredericksburg 22401 (130 Executive Center Parkway, 540-370-4468).

Fredericksburg at Southpoint 22408 (10401 Spotsylvania Ave., Suite 300, 540-693-3140).

Harrisonburg 22801 (1755 S High Street, 304-263-0811 or 800-817-3807).

Jonesville 24263 (32613 Wilderness Rd., Suite 101, 276-346-2595).

Lynchburg 24501 (1600 Lakeside Dr., 434-316-5000).

Marion 24354 (4451 Lee Highway, 276-783-2126).

Norton 24656 (654 Highway 58 East, 276-597-2305).

Staunton 24401 (102 Lacy B. King Way, 540-886-5777).

Stephens City 22602 (170 Prosperity Drive, 800-817-3807).

Tazewell 24651 (388 Ben Bolt Ave., 276-988-8860).

Vansant 24656 (1941 Lover's Gap Rd., Suite A, 276-597-2305).

Virginia Beach 23462 (244 Clearfield Ave., 757-722-9961).

Wytheville 24382 (165 Peppers Ferry Rd., 276-223-5400).

Regional Office

Roanoke 24011 (210 Franklin Rd. SW, statewide 1-800-827-1000)—Fiduciary Duties for District of Columbia, Kentucky, Maryland, Virginia, West Virginia (1-800-933-5499),

Vets Centers

Alexandria 22309 (8796 Sacramento Dr., Suite D&E, 703-360-8633).

Norfolk 23517 (2200 Colonial Ave., Suite 3, 757-623-7584).

Richmond 23230 (4902 Fitzhugh Ave., 804-353-8958).

Roanoke 24016 (350 Albemarle Ave. SW, 540-342-9726).

National Cemeteries

Alexandria 22314 (1450 Wilkes St., 703-221-2183/2184).

Balls Bluff 22075 (Rte. 7, Leesburg, 540-825-0027).

City Point 23860 (10th Ave. & Davis St., Hopewell, 804-795-2031).

Cold Harbor 23111 (6038 Cold Harbor Rd., Mechanicsville, 804-795-2031).

Culpeper 22701 (305 U.S. Ave., 540-825-0027).

Danville 24541 (721 Lee St., 704-636-2661).

Fort Harrison 23231 (8620 Varina Rd., Richmond, 804-795-2031).

Glendale 23231 (8301 Willis Church Rd., Richmond, 804-795-2031).

Hampton 23667 (Cemetery Rd. at Marshall Ave., 757-723-7104).

Hampton 23667 (VAMC, Emancipation Dr., 757-723-7104).

Quantico 22172 (P.O. Box 10, 18424 Joplin Rd. (Rte. 619), 703-221-2183/2184).

Richmond 23231 (1701 Williamsburg Rd., 804-795-2031).

Seven Pines 23150 (400 E Williamsburg Rd., Sandston, 804-795-2031).

Staunton 24401 (901 Richmond Ave., 540-825-0027).

Winchester 22601 (401 National Ave., 540-825-0027).

VIRGIN ISLANDS

Clinics

St. Croix 00850-4701 (105553 Kingshill, The Village Mall, Suite 113, RR 2 Box 12, 340-778-5553).

St. Thomas 00802 (50 Estates Thomas, Suite 101, 340-774-6674).

Benefits

Served by San Juan, Puerto Rico, VA Regional Office, 1-800-827-1000.

Vets Centers

St. Croix 00850 (Box 12, RR 02, Village Mall, 113, RR 2 Box 10556, Kingshill, 340-778-5553).

St. Thomas 00802 (9800 Buchaneer Mall, Suite 8, 340-774-6674).

WASHINGTON

VA Medical Centers

Seattle 98108 (1660 S Columbian Way, 206-762-1010 or 800-329-8387).

Spokane 99205 (4815 N Assembly Street, 509-434-7000).

Tacoma 98493 (9600 Veterans Dr., 253-582-8440 or 800-329-8387).

Vancouver 98661 (1601 E 4th Plain Blvd., 360-696-4061).

Walla Walla 99362 (77 Wainwright Drive, 509-525-5200 or 888-687-8863).

Clinics

Bellevue 98005 (13033 Bel-Red Road, Suite 210, 844-296-6566).

Bremerton 98312 (925 Adele Avenue, 360-473-0340).

Chehalis 98532 (151 NE Hampe Way, Suite B2-6, 360-748-3049).

Federal Way 98003 (34617 11th Place South, Suite 301, 253-336-4142).

Mount Vernon 98274 (307 S 13th Street, Suite 200, 360-848-8500).

North Seattle 98125 (12360 Lake City Way NE, Suite 200, 206-384-4382).

Port Angeles 98362 (1114 Georgiana Street, 360-565-7420).

Richland 99352 (825 Jadwin Ave., Suite 250, 509-946-1020).

Wenatchee 98801 (2530 Chester-Kimm Road, 509-663-7615).

Yakima 98902 (717 Fruitvale Blvd., 509-966-0199).

Regional Office

Seattle 98174 (Fed. Bldg., 915 2nd Ave., statewide 1-800-827-1000).

Benefits Offices

Fort Lewis 98433 (Waller Hall Rm. 700, P.O. Box 331153, 253-967-7106).

Bremerton 98337 (W Sound Pre-Separation Center, 262 Burwell St., 360-782-9900).

Vets Centers

Bellingham 98226 (3800 Byron Ave., Suite 124, 360-733-9226).

Seattle 98121 (2030 9th Ave., Suite 210, 206-553-2706).

Spokane 99206 (100 N Mullan Rd., Suite 102, 509-444-8387).

Tacoma 98409 (4916 Center St., Suite E, 253-565-7038).

Yakima 98901 (1111 N First St., 509-457-2736).

National Cemetery

Tahoma 98042-4868 (18600 SE 240th St., Kent, 425-413-9614).

Vancouver Barracks 98663 (1455 E 4th Plain Blvd., 503-273-5253).

WEST VIRGINIA

VA Medical Centers

Beckley 25801 (200 Veterans Avenue, 304-255-2121).

Clarksburg 26301 (One Medical Center Drive, 304-623-3461 or 800-733-0512).

Huntington 25704 (1540 Spring Valley Drive, 304-429-6741).

Martinsburg 25405 (510 Butler Avenue, 304-263-0811 or 800-817-3807).

Clinics

Charleston 25304 (700 Technology Dr., 304-746-5300).

Franklin 26807 (91 Pine Street, 304-263-0811 or 800-817-3807).

Gassaway 26624 (40 Reston Place, 304-364-4501).

Greenbrier County 24970 (228 Shamrock Lane, 304-497-3900).

Lenore 25676 (2867 Route 65, 304-475-3000).

Parkersburg 260101 (2311 Ohio Avenue, Suite D, 304-485-1599).

Parsons 26287 (206 Spruce Street, 304-478-2219).

Petersburg 26847 (15 Grant Street, 304-263-0811 or 800-817-3807).

Princeton 24740 (150 Court House Rd., Suite 201, 304-323-4020).

Westover 26501 (40 Commerce Dr., Suite 101, 304-292-7535).

Regional Office

Huntington 25701 (640 Fourth Ave., statewide 1-800-827-1000; counties of Brooke, Hancock, Marshall, Ohio, served by Pittsburgh, Pa., VA Regional Office).

Vets Centers

Beckley 25801 (101 Ellison Ave., 304-252-8220).

Charleston 25302 (521 Central Ave., 304-343-3825).

Huntington 25701 (3135 16th St. Rd., Suite 11, 304-523-8387).

Martinsburg 25401 (900 Winchester Ave., 304-263-6776).

Morgantown 26508 (1083 Greenbag Rd., 304-291-4303).

Princeton 24740 (905 Mercer St., 304-425-5653).

Wheeling 26003 (1206 Chapline St., 304-232-0587).

National Cemeteries

Grafton 26354 (431 Walnut St., 304-265-2044).

West Virginia 26354 (Rt. 2, Box 127, Grafton, 304-265-2044).

WISCONSIN

VA Medical Centers

Madison 53705 (2530 Overlook Terrace, 608-256-1901 or 888-478-8321).

Milwaukee 53295 (5000 West National Avenue, 414-384-2000).

Tomah 54660 (500 E Veterans Street, 608-372-3971).

Clinics

Appleton 54914 (10 Tri-Park Way, 920-831-0070).

Baraboo 53913 (1670 South Blvd., 608-356-9318).

Beaver Dam 53916 (215 Corporate Drive, Suite D, 920-356-9415).

Chippewa Falls 54729 (475 Chippewa Mall Dr., Suite 418, 715-720-3780).

Clark County 54460 (8 Johnson Street, 715-229-4701).

Cleveland 53015 (1205 North Avenue, 920-693-5600).

Green Bay 54311 (2851 University Ave., 920-431-2530 or 877-204-7970).

Hayward 54843 (10369 State Highway 27, 715-934-5454).

Janesville 53545 (2419 Morse Street, 608-758-9300).

Kenosha 53140 (8207 22, 262-653-9286).

La Crosse 54601 (2600 State Road, Phone: 608-784-3886).

Madison West 53711 (1 Science Court, 608-280-7059).

Rhinelander 54501 (639 West Kemp Street, 715-362-4080).

Rice Lake 54843 (2700A College Drive, 715-236-3355).

Twin Ports 54880 (3520 Tower Ave., 715-398-2400).

Union Grove 53182 (21425 Spring Street, 262-878-7001).

Wausau 54401 (515 South 32nd Avenue, 715-842-2834).

Wisconsin Rapids 54495 (555 West Grand Ave., P.O. Box 26, 715-424-4682).

Regional Office

Milwaukee 53214 (5400 W National Ave., statewide 1-800-827-1000).

Vets Centers

Madison 53703 (706 Williamson St., 608-264-5342).

Milwaukee 53218 (5401 N 76th St., 414-536-1301).

National Cemetery

Wood 53295-4000 (5000 W National Ave., Bldg. 1301, Milwaukee, 414-382-5300).

WYOMING

VA Medical Centers

Cheyenne 82001 (2360 E Pershing Blvd., 307-778-7550).

Sheridan (1898 Fort Road, 307-672-3473 or 866-822-6714).

Clinics

Afton 83110 (125 South Washington Street, 877-309-8931).

Casper 82601 (4140 S Poplar St., 1-866-338-5168).

Cody 82414 (1432 Rumsey Ave., 307-587-4015).

Evanston 82920 (1565 South Highway 150, Suite E, 877-733-6128).

Gillette 82718 (604 Express Dr., 866-621-1887).

Newcastle 57555 (1124 Washington Blvd., 307-746-4491).

Rawlins 82301 (1809 East Daley Street, 307-324-5578).

Riverton 82531 (2300 Rose Lane, 1-866-338-2609).

Rock Springs 82901 (1401 Gateway Blvd., Suite 1 866-381-2830).

Worland 82401 (510 South 15th Street, Suite D, 877-483-0370).

Benefits Office

Cheyenne 82001 (2360 E. Pershing Blvd., statewide 1-800-827-1000).

Vets Centers

Casper 82601 (1030 North Poplar, Suite B, 307-261-5355).

Cheyenne 82001 (3219 East Pershing Blvd., 307-778-7370).

[FR Doc. 2020-21426 Filed 10-1-20; 8:45 am]

BILLING CODE 8320-01-P